DEPARTMENT OF THE INTERIOR

Fish and Wildlife Service

50 CFR Parts 10 and 21

[Docket No. FWS-R9-MB-2010-0088; 91200-1231-9BPP]

RIN 1018-AX48

General Provisions; Revised List of Migratory Birds

AGENCY: Fish and Wildlife Service, Interior.

ACTION: Proposed rule.

SUMMARY: We, the U.S. Fish and Wildlife Service, propose to revise the List of Migratory Birds by both adding and removing species. Reasons for the changes to the list include adding species based on new taxonomy and new evidence of occurrence in the United States or U.S. territories, removing species no longer known to occur within the United States, and changing names to conform to accepted use. The net increase of 19 species (23 added and 4 removed) brings the total number of species protected by the Migratory Bird Treaty Act (MBTA) to 1,026. We regulate most aspects of the taking, possession, transportation, sale, purchase, barter, exportation, and importation of migratory birds. An accurate and up-to-date list of species protected by the MBTA is essential for public notification and regulatory purposes.

DATES: To ensure consideration of your comments, they must be received or postmarked on or before July 25, 2011.

ADDRESSES: You may submit comments by either one of the following methods:

• Federal eRulemaking Portal: http://www.regulations.gov. Follow the instructions for submitting comments on Docket No. FWS-R9-MB-2010-0088.

• U.S. Mail or hand delivery: Public Comments Processing, Attn: FWS-R9-MB-2010-0088; Division of Policy and Directives Management; U.S. Fish and Wildlife Service; 4401 North Fairfax Drive, Suite 222; Arlington, VA 22203-1610.

We will not accept e-mail or faxes. We will post all comments on http://www.regulations.gov. This generally means that we will post any personal information that you provide. See the Public Comments section below for more information.

FOR FURTHER INFORMATION CONTACT: Terry Doyle, Wildlife Biologist, Division of Migratory Bird Management, 703-358-1799.

SUPPLEMENTARY INFORMATION:

Background

What statutory authority does the service have for this rulemaking?

We have statutory authority and responsibility for enforcing the Migratory Bird Treaty Act (MBTA) (16 U.S.C. 703-712), the Fish and Wildlife Improvement Act of 1978 (16 U.S.C. 742l), and the Fish and Wildlife Act of 1956 (16 U.S.C. 742a-j). The MBTA implements Conventions between the United States and four neighboring countries for the protection of migratory birds, as follows:

(1) Canada: Convention between the United States and Great Britain [on behalf of Canada] for the Protection of Migratory Birds, August 16, 1916, 39 Stat. 1702 (T.S. No. 628);

(2) Mexico: Convention between the United States and Mexico for the Protection of Migratory Birds and Game Mammals, February 7, 1936, 50 Stat. 1311 (T.S. No. 912);

(3) Japan: Convention between the Government of the United States of America and the Government of Japan for the Protection of Migratory Birds and Birds in Danger of Extinction, and Their Environment, March 4, 1972, 25 U.S.T. 3329 (T.I.A.S. No. 7990); and

(4) Russia: Convention between the United States of America and the Union of Soviet Socialist Republics Concerning the Conservation of Migratory Birds and Their Environment (Russia), November 19, 1976, 29 U.S.T. 4647 (T.I.A.S. No. 9073).

What is the purpose of this rulemaking?

Our purpose is to inform the public of the species protected by the MBTA and its implementing regulations. These regulations are found in Title 50, Code of Federal Regulations (CFR), Parts 10, 20, and 21. We regulate most aspects of the taking, possession, transportation, sale, purchase, barter, exportation, and importation of migratory birds. An accurate and up-to-date list of species protected by the MBTA is essential for regulatory purposes.

Why is this amendment of the list of migratory birds necessary?

The amendment is needed to: (1) Add five species previously overlooked from a family protected under the MBTA; (2) correct the spelling of five species on the alphabetized list; (3) correct the spelling of two species on the taxonomic list; (4) add 11 species based on new distributional records documenting their natural occurrence in the United States since April 2007; (5) add one species from a family now protected under the MBTA as a result of taxonomic changes; (6) add six species newly recognized as a result of recent taxonomic changes; (7) remove four species not known to occur within the boundaries of the United States or its territories as a result of recent taxonomic changes; (8) change the common (English) names of nine species to conform with accepted use; and (9) change the scientific names of 36 species to conform to accepted use.

The List of Migratory Birds (50 CFR 10.13) was last revised on March 1, 2010 (75 FR 9282). These amendments were necessitated by three published supplements to the 7th (1998) edition of the American Ornithologists' Union's (AOU's) Check-list of North American Birds (AOU 2008, AOU 2009, and AOU 2010).

In addition, we propose to correct the legal authorities citations at 50 CFR 10.13(a).

We also would make a small change to a definition in 50 CFR 21.3. We propose to update the definition of “raptor” to also include the order Accipitriformes to correspond to the proposed changes in the List of Migratory Birds.

What scientific authorities are used to amend the list of migratory birds?

Although bird names (common and scientific) are relatively stable, staying current with standardized use is necessary to avoid confusion in communications. In making our determinations, we primarily relied on the American Ornithologists' Union's Check-list of North American Birds (AOU 1998), as amended (AOU 1999, 2000, 2002, 2003, 2004, 2005, 2006, 2007, 2008, 2009, and 2010), on matters of taxonomy, nomenclature, and the sequence of species and other higher taxonomic categories (orders, families, subfamilies) for species that occur in North America. The AOU Checklist contains all bird species that have occurred in North America from the Arctic through Panama, including the West Indies and the Hawaiian Islands, and includes distributional information for each species, which specifies whether the species is known to occur in the United States. For the 39 species that occur outside the geographic area covered by the Check-list (28 that occur in the Pacific island territories and 11 listed in the Japanese and/or Russian conventions that have not occurred in the AOU area), we relied primarily on Clements (2007). Although we primarily rely on the above checklists, when informed taxonomic opinion is inconsistent or controversial, we evaluate available published and unpublished information and come to our own conclusion regarding the validity of taxa.

What criteria are used to identify individual species protected by the MBTA?

A species qualifies for protection under the MBTA by meeting one or more of the following four criteria:

(1) It is covered by the Canadian Convention of 1916, as amended in 1996, by virtue of meeting the following three criteria: (a) It belongs to a family or group of species named in the Canadian Convention, as amended; (b) specimens, photographs, videotape recordings, or audiotape recordings provide convincing evidence of natural occurrence in the United States or its territories; and (c) the documentation of such records has been recognized by the AOU or other competent scientific authorities.

(2) It is covered by the Mexican Convention of 1936, as amended in 1972, by virtue of meeting the following three criteria: (a) It belongs to a family or group of species named in the Mexican Convention, as amended; (b) specimens, photographs, videotape recordings, or audiotape recordings provide convincing evidence of natural occurrence in the United States or its territories; and (c) the documentation of such records has been recognized by the AOU or other competent scientific authorities.

(3) It is listed in the annex to the Japanese Convention of 1972, as amended.

(4) It is listed in the appendix to the Russian Convention of 1976.

In accordance with the Migratory Bird Treaty Reform Act of 2004 (MBTRA) (Pub. L. 108-447, 118 Stat. 2809, 3071-72), we include all species native to the United States or its territories, which are those that occur as a result of natural biological or ecological processes (see 70 FR 12710, March 15, 2005). We do not include nonnative species whose occurrences in the United States are solely the result of intentional or unintentional human-assisted introduction(s).

How do the proposed changes affect the list of migratory birds?

Several taxonomic changes were made at the Order and Family level by the AOU since publication of the last list. These changes affect the inclusion and taxonomic order of species on this list. Specifically, the Orders Phaethontiformes and Suliformes were split from the Pelecaniformes. Phaethontiformes now includes the Family Phaethontidae (tropicbirds); Suliformes now includes the Families Fregatidae (frigatebirds), Sulidae (boobys), Phalacrocoracidae (cormorants), and Anhingidae (anhingas). In addition, the Order Accipitriformes was split from the Falconiformes and now include the Families Cathartidae (vultures), Pandionidae (Osprey), and Accipitridae (hawks and eagles). At the Family level, the Ardeidae (herons and egrets) and Threskiornithidae (ibis and spoonbills) were moved from the Ciconiiformes to the Pelecaniformes Order, the Pandionidae (Osprey) were separated from the Accipitridae (hawks and eagles), and the Stercorariidae (jaegers and skuas) were separated from the Laridae (gulls, terns, and skimmers). The Polioptilidae (gnatcatchers), Phylloscopidae (Phylloscopus warblers), Acrocephalidae (Acrocephalus warblers), and Megaluridae (Locustella warblers) were separated from the Sylviidae, and the Calcariidae (longspurs and snow buntings) were separated from the Emberizidae (buntings and sparrows). The euphonias were put into their own Subfamily (Euphoniinae) and moved from the Thraupidae to the Fringillidae Family. All species within these newly created families continue to be protected under the MBTA. In addition, the Wrentit was moved from the Timaliidae (babblers) to the Sylviidae and is now in a family protected by the MBTA.

The amendments (23 additions, 4 removals, and 51 name changes) affect a grand total of 78 species and result in a net addition of 19 species to the List of Migratory Birds, increasing the species total from 1,007 to 1,026. Of the 23 species that we add to the list, 6 were previously covered under the MBTA as subspecies of listed species. These amendments can be logically arranged in the following 9 categories:

(1) Add five species from the family Muscicapidae, a family specifically listed in the 1996 protocol amending the 1916 convention with Canada. The omission of these species on the previous list was an oversight. All are considered accidental or casual in Alaska. The species and relevant AOU publication(s) are:

Mugimaki Flycatcher, Ficedula mugimaki (AOU 1987, 1997, 1998);

Taiga Flycatcher, Ficedula albicilla (AOU 1982, 1983, 1998, 2006);

Dark-sided Flycatcher, Muscicapa sibirica (AOU 1982, 1983, 1998, 2004);

Asian Brown Flycatcher, Muscicapa dauurica (AOU 1987, 1989, 1998); and

Spotted Flycatcher, Muscicapa striata (AOU 2004).

(2) Correct the spelling of five scientific names on the alphabetized list:

Nesofregata fuliginosa (Polynesian Storm-Petrel), becomes Nesofregetta fuliginosa;

Thalleseus maximus (Royal Tern), becomes Thalasseus maximus;

Thalleseus sandvicensis (Sandwich Tern), becomes Thalasseus sandvicensis;

Phylloscopus siilatrix (Wood Warbler), becomes Phylloscopus sibilatrix; and

Locustella lanceoloata (Lanceolated Warbler), becomes Locustella lanceolata.

(3) Correct the spelling of two scientific names on the taxonomic list:

Nesofregetta fuiginosa (Polynesian Storm-Petrel), becomes Nesofregetta fuliginosa; and

Tiaris olivacea (Yellow-faced Grassquit), becomes Tiaris olivaceus.

(4) Add 11 species based on review and acceptance by AOU (since April 2007) of new distributional records documenting their occurrence in the United States, Puerto Rico, or the U.S. Virgin Islands. These species belong to families covered by the Canadian and/or Mexican Conventions, and all are considered to be of accidental or casual occurrence. For each species, we list the State in which it has been recorded plus the relevant publication:

Parkinson's Petrel, Procellaria parkinsoni—California (AOU 2008);

Swinhoe's Storm-Petrel, Oceanodroma monorhis—North Carolina (AOU 2010);

Swallow-tailed Gull, Creagrus furcatus—California (AOU 2008);

Brown Hawk-Owl, Ninox scutulata—Alaska (AOU 2009);

White-crested Elaenia, Elaenia albiceps—Texas (AOU 2010);

Crowned Slaty Flycatcher, Empidonomus aurantioatrocristatus—Louisiana (AOU 2010);

Sinaloa Wren, Thryothorus sinaloa—Arizona (AOU 2010);

Pallas's Leaf-Warbler, Phylloscopus proregulus—Alaska (AOU 2008);

Sedge Warbler, Acrocephalus schoenobaenus—Alaska (AOU 2009);

Rufous-tailed Robin, Luscinia sibilans—Alaska (AOU 2010); and

Yellow-browed Bunting, Emberiza chrysophrys—Alaska (AOU 2009).

(5) Add one species because of recent taxonomic changes transferring a species in a family formerly not protected by the MBTA (Timaliidae) into a family protected under the MBTA (Sylviidae). We reference the AOU publication supporting the change:

Wrentit, Chamaea fasciata (AOU 2010).

(6) Add six species because of recent taxonomic changes in which taxa formerly treated as subspecies have been determined to be distinct species. Given that each of these species was formerly treated as subspecies of a listed species, these additions will not change the protective status of any of these taxa, only the names by which they are known. In each case, we reference the AOU publication supporting the change:

Eastern Spot-billed Duck, Anas zonorhyncha—formerly considered a subspecies of Anas poecilorhyncha, Spot-billed Duck (AOU 2008);

Black Scoter, Melanitta americana— formerly treated as a subspecies of Melanitta nigra, Common [Black] Scoter (AOU 2009);

Mexican Whip-poor-will, Caprimulgus arizonae— formerly treated as a subspecies of Caprimulgus vociferus, Whip-poor-will (AOU 2010);

Pacific Wren, Troglodytes pacificus— formerly treated as a subspecies of Troglodytes troglodytes, Eurasian [Winter] Wren (AOU 2010);

Winter Wren, Troglodytes hiemalis— formerly treated as a subspecies of Troglodytes troglodytes, Eurasian [Winter] Wren (AOU 2010); and

Puerto Rican Oriole, Icterus portoricensis— formerly treated as a subspecies of Icterus dominicensis, Hispaniolan [Greater Antillean] Oriole (AOU 2010).

(7) Remove four species based on revised taxonomic treatments and distributional evidence confirming that their known geographic ranges lie entirely outside the political boundaries of the United States and its territories. In each case, we reference the AOU publication supporting these changes:

Spot-billed Duck, Anas poecilorhyncha (AOU 2008);

Common [Black] Scoter, Melanitta nigra (AOU 2009);

Eurasian [Winter] Wren, Troglodytes troglodytes (AOU 2010); and

Hispaniolan [Greater Antillean] Oriole, Icterus dominicensis (AOU 2010).

(8) Revise the common (English) names of nine species to conform to the most recent nomenclatural treatment. These revisions do not change the protective status of any of these taxa, only the names by which they are known. In each case, we reference the published source for the name change:

Greater Flamingo, Phoenicopterus ruber, becomes American Flamingo (AOU 2008);

Greater Shearwater, Puffinus gravis, becomes Great Shearwater (AOU 2010);

Whip-poor-will, Caprimulgus vociferus, becomes Eastern Whip-poor-will (AOU 2010);

Green Violet-ear, Colibri thalassinus, becomes Green Violetear (AOU 2008);

Blue Rock Thrush, Monticola solitarius, becomes Blue Rock-Thrush (Clements 2007);

Clay-colored Robin, Turdus grayi, becomes Clay-colored Thrush (AOU 2008);

White-throated Robin, Turdus assimilis, becomes White-throated Thrush (AOU 2008);

Nelson's Sharp-tailed Sparrow, Ammodramus nelsoni, becomes Nelson's Sparrow (AOU 2009); and

Saltmarsh Sharp-tailed Sparrow, Ammodramus caudacutus, becomes Saltmarsh Sparrow (AOU 2009).

(9) Revise the scientific names of 36 species to conform to the most recent nomenclatural treatment. These revisions do not change the protective status of any of these taxa, only the names by which they are known. In each case, we reference the AOU publication documenting the name change:

Larus philadelphia (Bonaparte's Gull) becomes Chroicocephalus philadelphia (AOU 2008);

Larus cirrocephalus (Gray-hooded Gull) becomes Chroicocephalus cirrocephalus (AOU 2008);

Larus ridibundus (Black-headed Gull) becomes Chroicocephalus ridibundus (AOU 2008);

Larus minutus (Little Gull) becomes Hydrocoloeus minutus (AOU 2008);

Larus atricilla (Laughing Gull) becomes Leucophaeus atricilla (AOU 2008);

Larus pipixcan (Frankin's Gull) becomes Leucophaeus pipixcan (AOU 2008);

Cyanocorax morio (Brown Jay) becomes Psilorhinus morio (AOU 2010);

Poecile hudsonica (Boreal Chickadee) becomes Poecile hudsonicus (AOU 2009);

Poecile cincta (Gray-headed Chickadee) becomes Poecile cinctus (AOU 2009);

Calcarius mccownii (McCown's Longspur) becomes Rhynchophanes mccownii (AOU 2010);

Vermivora pinus (Blue-winged Warbler) becomes Vermivora cyanoptera (AOU 2010);

Vermivora peregrina (Tennessee Warbler) becomes Oreothlypis peregrina (AOU 2010);

Vermivora celata (Orange-crowned Warbler) becomes Oreothlypis celata (AOU 2010);

Vermivora ruficapilla (Nashville Warbler) becomes Oreothlypis ruficapilla (AOU 2010);

Vermivora virginiae (Virginia's Warbler) becomes Oreothlypis virginiae (AOU 2010);

Vermivora crissalis (Colima Warbler) becomes Oreothlypis crissalis (AOU 2010);

Vermivora luciae (Lucy's Warbler) becomes Oreothlypis luciae (AOU 2010);

Parula superciliosa (Crescent-chested Warbler) becomes Oreothlypis superciliosa (AOU 2010);

Seiurus noveboracensis (Northern Waterthrush) becomes Parkesia noveboracensis (AOU 2010);

Seiurus motacilla (Louisiana Waterthrush) becomes Parkesia motacilla (AOU 2010);

Pipilo fuscus (Canyon Towhee) becomes Melozone fusca (AOU 2010);

Pipilo crissalis (California Towhee) becomes Melozone crissalis (AOU 2010);

Pipilo aberti (Abert's Towhee) becomes Melozone aberti (AOU 2010);

Aimophila carpalis (Rufous-winged Sparrow) becomes Peucaea carpalis (AOU 2010);

Aimophila botterii (Botteri's Sparrow) becomes Peucaea botterii (AOU 2010);

Aimophila cassinii (Cassin's Sparrow) becomes Peucaea cassinii (AOU 2010);

Aimophila aestivalis (Bachman's Sparrow) becomes Peucaea aestivalis (AOU 2010);

Aimophila quinquestriata (Five-striped Sparrow) becomes Amphispiza quinquestriata (AOU 2010);

Carduelis flammea (Common Redpoll) becomes Acanthis flammea (AOU 2009);

Carduelis hornemanni (Hoary Redpoll) becomes Acanthis hornemanni (AOU 2009);

Carduelis spinus (Eurasian Siskin) becomes Spinus spinus (AOU 2009);

Carduelis pinus (Pine Siskin) becomes Spinus pinus (AOU 2009);

Carduelis psaltria (Lesser Goldfinch) becomes Spinus psaltria (AOU 2009);

Carduelis lawrencei (Lawrence's Goldfinch) becomes Spinus lawrencei (AOU 2009);

Carduelis tristis (American Goldfinch) becomes Spinus tristis (AOU 2009); and

Carduelis sinica (Oriental Greenfinch) becomes Chloris sinica (AOU 2009).

For ease of comparison, changes are summarized in the following table (numbers reference the categories treated above). Species whose names have been revised (categories 2, 8, and 9) appear in both the left-hand column (old name removed) and right-hand column (new name added), as are species that have been added based on taxonomic splits (category 6) of extralimital species that have been removed (category 7).

Removed (taxonomically) | Added (taxonomically)
Spot-billed Duck, Anas poecilorhyncha (7) | Eastern Spot-billed Duck, Anas zonorhyncha (6).
Common [Black] Scoter, Melanitta nigra (7) | Black Scoter, Melanitta americana (6).
Greater Flamingo, Phoenicopterus ruber (8) | American Flamingo, Phoenicopterus ruber (8).
| Parkinson's Petrel, Procellaria parkinsoni (4).
Greater Shearwater, Puffinus gravis (8) | Great Shearwater, Puffinus gravis (8).
Polynesian Storm-Petrel, Nesofregata fuliginosa (2) | Polynesian Storm-Petrel, Nesofregetta fuliginosa (2).
Polynesian Storm-Petrel, Nesofregetta fuiginosa (3) | Polynesian Storm-Petrel, Nesofregetta fuliginosa (3).
| Swinhoe's Storm-Petrel, Oceanodroma monorhis (4).
| Swallow-tailed Gull, Creagrus furcatus (4).
Bonaparte's Gull, Larus philadelphia (9) | Bonaparte's Gull, Chroicocephalus philadelphia (9).
Gray-hooded Gull, Larus cirrocephalus (9) | Gray-hooded Gull, Chroicocephalus cirrocephalus (9).
Black-headed Gull, Larus ridibundus (9) | Black-headed Gull, Chroicocephalus ridibundus (9).
Little Gull, Larus minutus (9) | Little Gull, Hydrocoloeus minutus (9).
Laughing Gull, Larus atricilla (9) | Laughing Gull, Leucophaeus atricilla (9).
Frankin's Gull, Larus pipixcan (9) | Frankin's Gull, Leucophaeus pipixcan (9).
Royal Tern, Thalleseus maximus (2) | Royal Tern, Thalasseus maximus (2).
Sandwich Tern, Thalleseus sandvicensis (2) | Sandwich Tern, Thalasseus sandvicensis (2).
| Brown Hawk-Owl, Ninox scutulata (4).
Whip-poor-will, Caprimulgus vociferus (8) | Eastern Whip-poor-will, Caprimulgus vociferus (8).
| Mexican Whip-poor-will, Caprimulgus arizonae (6).
Green Violet-ear, Colibri thalassinus (8) | Green Violetear, Colibri thalassinus (8).
| White-crested Elaenia, Elaenia albiceps (4).
| Crowned Slaty Flycatcher, Empidonomus aurantioatrocristatus (4).
Brown Jay, Cyanocorax morio (9) | Brown Jay, Psilorhinus morio (9).
Boreal Chickadee, Poecile hudsonica (9) | Boreal Chickadee, Poecile hudsonicus (9).
Gray-headed Chickadee, Poecile cincta (9) | Gray-headed Chickadee, Poecile cinctus (9).
| Sinaloa Wren, Thryothorus sinaloa (4).
| Pacific Wren, Troglodytes pacificus (6).
Eurasian [Winter] Wren, Troglodytes troglodytes (7) | Winter Wren, Troglodytes hiemalis (6).
Wood Warbler, Phylloscopus siilatrix (2) | Wood Warbler, Phylloscopus sibilatrix (2).
| Pallas's Leaf-Warbler, Phylloscopus proregulus (4).
Lanceolated Warbler, Locustella lanceoloata (2) | Lanceolated Warbler, Locustella lanceolata (2).
| Wrentit, Chamaea fasciata (5).
| Sedge Warbler, Acrocephalus schoenobaenus (4).
| Mugimaki Flycatcher, Ficedula mugimaki (1).
| Taiga Flycatcher, Ficedula albicilla (1).
| Dark-sided Flycatcher, Muscicapa sibirica (1).
| Asian Brown Flyctcher, Muscicapa dauurica (1).
| Spotted Flycatcher, Muscicapa striata (1).
Blue Rock Thrush, Monticola solitarius (8) | Blue Rock-Thrush, Monticola solitarius (8).
| Rufous-tailed Robin, Luscinia sibilans (4).
Clay-colored Robin, Turdus grayi (8) | Clay-colored Thrush, Turdus grayi (8).
White-throated Robin, Turdus assimilis (8) | White-throated Thrush, Turdus assimilis (8).
McCown's Longspur, Calcarius mccownii (9) | McCown's Longspur, Rhynchophanes mccownii (9).
Blue-winged Warbler, Vermivora pinus (9) | Blue-winged Warbler, Vermivora cyanoptera (9).
Tennessee Warbler, Vermivora peregrina (9) | Tennessee Warbler, Oreothlypis peregrina (9).
Orange-crowned Warbler, Vermivora celata (9) | Orange-crowned Warbler, Oreothlypis celata (9).
Nashville Warbler, Vermivora ruficapilla (9) | Nashville Warbler, Oreothlypis ruficapilla (9).
Virginia's Warbler, Vermivora virginiae (9) | Virginia's Warbler, Oreothlypis virginiae (9).
Colima Warbler, Vermivora crissalis (9) | Colima Warbler, Oreothlypis crissalis (9).
Lucy's Warbler, Vermivora luciae (9) | Lucy's Warbler, Oreothlypis luciae (9).
Crescent-chested Warbler, Parula superciliosa (9) | Crescent-chested Warbler, Oreothlypis superciliosa (9).
Northern Waterthrush, Seiurus noveboracensis (9) | Northern Waterthrush, Parkesia noveboracensis (9).
Louisiana Waterthrush, Seiurus motacilla (9) | Louisiana Waterthrush, Parkesia motacilla (9).
Yellow-faced Grassquit, Tiaris olivacea (3) | Yellow-faced Grassquit, Tiaris olivaceus (3).
Canyon Towhee, Pipilo fuscus (9) | Canyon Towhee, Melozone fusca (9).
California Towhee, Pipilo crissalis (9) | California Towhee, Melozone crissalis (9).
Abert's Towhee, Pipilo aberti (9) | Abert's Towhee, Melozone aberti (9).
Rufous-winged Sparrow, Aimophila carpalis (9) | Rufous-winged Sparrow, Peucaea carpalis (9).
Botteri's Sparrow, Aimophila botterii (9) | Botteri's Sparrow, Peucaea botterii (9).
Cassin's Sparrow, Aimophila cassinii (9) | Cassin's Sparrow, Peucaea cassinii (9).
Bachman's Sparrow, Aimophila aestivalis (9) | Bachman's Sparrow, Peucaea aestivalis (9).
Five-striped Sparrow, Aimophila quinquestriata (9) | Five-striped Sparrow, Amphispiza quinquestriata (9).
Nelson's Sharp-tailed Sparrow, Ammodramus nelsoni (8) | Nelson's Sparrow, Ammodramus nelsoni (8).
Saltmarsh Sharp-tailed Sparrow, Ammodramus caudacutus (8) | Saltmarsh Sparrow, Ammodramus caudacutus (8).
| Yellow-browed Bunting, Emberiza chrysophrys (4).
Hispaniolan [Greater Antillean] Oriole, Icterus dominicensis (7) | Puerto Rican Oriole, Icterus portoricensis (6).
Common Redpoll, Carduelis flammea (9) | Common Redpoll, Acanthis flammea (9).
Hoary Redpoll, Carduelis hornemanni (9) | Hoary Redpoll, Acanthis hornemanni (9).
Eurasian Siskin, Carduelis spinus (9) | Eurasian Siskin, Spinus spinus (9).
Pine Siskin, Carduelis pinus (9) | Pine Siskin, Spinus pinus (9).
Lesser Goldfinch, Carduelis psaltria (9) | Lesser Goldfinch, Spinus psaltria (9).
Lawrence's Goldfinch, Carduelis lawrencei (9) | Lawrence's Goldfinch, Spinus lawrencei (9).
American Goldfinch, Carduelis tristis (9) | American Goldfinch, Spinus tristis (9).
Oriental Greenfinch, Carduelis sinica (9) | Oriental Greenfinch, Chloris sinica (9).

How is the list of migratory birds organized?

The species are listed in two formats to suit the needs of different segments of the public: alphabetically in 50 CFR 10.13(c)(1) and taxonomically in 50 CFR 10.13(c)(2). In the alphabetical listing, species are listed by common (English) group names, with the scientific name of each species following the English group name. This format, similar to that used in modern telephone directories, is most useful to members of the lay public. In the taxonomic listing, species are listed in phylogenetic sequence by scientific name, with the English name following the scientific name. To help clarify species relationships, we also list the higher-level taxonomic categories of Order, Family, and Subfamily. This format follows the sequence adopted by the AOU (1998, 2010) and is most useful to ornithologists and other scientists.

What species are not protected by the Migratory Bird Treaty Act?

The MBTA does not apply to:

(1) Nonnative species introduced into the United States or its territories by means of intentional or unintentional human assistance that belong to families or groups covered by the Canadian, Mexican, or Russian Conventions, in accordance with the MBTRA. See 70 FR 12710 (March 15, 2005) for a partial list of nonnative, human-introduced bird species in this category. Note, though, that native species that are introduced into parts of the United States where they are not native are still protected under the MBTA regardless of where they occur in the United States or its territories.

(2) Nonnative, human-introduced species that belong to families or groups not covered by the Canadian, Mexican, or Russian Conventions, including Tinamidae (tinamous), Cracidae (chachalacas), Megapodiidae (megapodes), Phasianidae (grouse, ptarmigan, and turkeys), Turnicidae (buttonquails), Odontophoridae (New World quail), Pteroclididae (sandgrouse), Psittacidae (parrots), Dicruridae (drongos), Rhamphastidae (toucans), Musophagidae (turacos), Bucerotidae (hornbills), Bucorvidae (ground-hornbills), Pycnonotidae (bulbuls), Pittidae (pittas), Irenidae (fairy-bluebirds), Timaliidae (babblers), Zosteropidae (white-eyes), Sturnidae (starlings; except as listed in the Japanese Convention), Passeridae (Old World sparrows), Ploceidae (weavers), Estrildidae (estrildid finches), and numerous other families not currently represented in the United States or its territories.

(3) Native species that belong to families or groups represented in the United States, but which are not expressly mentioned by the Canadian, Mexican, or Russian Conventions, including the Megapodiidae (megapodes), Phasianidae (grouse, ptarmigan, and turkeys), Odontophoridae (New World quail), Burhinidae (thick-knees), Glareolidae (pratincoles), Psittacidae (parrots), Todidae (todies), Meliphagidae (honeyeaters), Monarchidae (monarch flycatchers [elepaios]), Zosteropidae (white-eyes), and Coerebidae (bananaquit). It should be noted that this rule supersedes the 70 FR 12710 notice to the extent that they are inconsistent. Specifically, the 1996 amendment to the Canadian Convention included the family Muscicapidae (Old World flycatchers). Thus, all members of the Muscicapidae family are now included on this list. In addition, the Wrentit is now considered a member of the Sylviidae family rather than the Timaliidae family and is now included on this list.

Partial lists of the species included in categories 2 and 3 are available at http://www.fws.gov/migratorybirds/RegulationsPolicies/mbta/MBTAProtectedNonprotected.html.

Public Comments

We request comments or suggestions on this proposed rule from any interested parties. You may submit your comments and materials concerning this proposed rule by one of the methods listed in the ADDRESSES section. We will not consider comments sent by e-mail or fax or to an address not listed in the ADDRESSES section.

If you submit a comment via http://www.regulations.gov, your entire comment—including any personal identifying information—will be posted on the Web site. If you submit a hardcopy comment that includes personal identifying information, you may request at the top of your document that we withhold this information from public review. However, we cannot guarantee that we will be able to do so. We will post all hardcopy comments on http://www.regulations.gov.

Comments and materials we receive, as well as supporting documentation we used in preparing this proposed rule, will be available for public inspection at http://www.regulations.gov, or by appointment, during normal business hours, at the U.S. Fish and Wildlife Service (see FOR FURTHER INFORMATION CONTACT). You may obtain copies of our previous actions concerning this subject by mail (see FOR FURTHER INFORMATION CONTACT) or by visiting the Federal eRulemaking Portal at http://www.regulations.gov.

Required Determinations

Regulatory Planning and Review (Executive Order 12866)

The Office of Management and Budget (OMB) has determined that this proposed rule is not significant under Executive Order 12866. OMB bases its determination upon the following four criteria:

(a) Whether the rule will have an annual effect of $100 million or more on the economy or adversely affect an economic sector, productivity, jobs, the environment, or other units of the government.

(b) Whether the rule will create inconsistencies with other Federal agencies' actions.

(c) Whether the rule will materially affect entitlements, grants, user fees, loan programs, or the rights and obligations of their recipients.

(d) Whether the rule raises novel legal or policy issues.

Regulatory Flexibility Act (5 U.S.C. 601 et seq.)

Under the Regulatory Flexibility Act (5 U.S.C. 601 et seq., as amended by the Small Business Regulatory Enforcement Fairness Act (SBREFA) of 1996 (Pub. L. 104-121)), whenever an agency is required to publish a notice of rulemaking for any proposed or final rule, it must prepare and make available for public comment a regulatory flexibility analysis that describes the effect of the rule on small entities (i.e., small businesses, small organizations, and small government jurisdictions). However, no regulatory flexibility analysis is required if the head of an agency certifies the rule does not have a significant economic impact on a substantial number of small entities.

SBREFA amended the Regulatory Flexibility Act to require Federal agencies to provide the statement of the factual basis for certifying that a rule will not have a significant economic impact on a substantial number of small entities. We have examined this proposed rule's potential effects on small entities as required by the Regulatory Flexibility Act, and have determined that this action would not have a significant economic impact on a substantial number of small entities, because we are simply updating the list of migratory bird species protected under the Conventions. Consequently, we certify that because this rule does not have a significant economic effect on a substantial number of small entities, a regulatory flexibility analysis is not required.

This proposed rule is not a major rule under SBREFA (5 U.S.C. 804(2)). It would not have a significant impact on a substantial number of small entities.

a. This proposed rule would not have an annual effect on the economy of $100 million or more.

b. This proposed rule would not cause a major increase in costs or prices for consumers, individual industries, Federal, State, or local government agencies, or geographic regions.

c. This proposed rule will not have significant adverse effects on competition, employment, investment, productivity, innovation, or the ability of U.S.-based enterprises to compete with foreign-based enterprises.

Unfunded Mandates Reform Act

In accordance with the Unfunded Mandates Reform Act (2 U.S.C. 1501 et seq.), we have determined the following:

a. This proposed rule would not “significantly or uniquely” affect small governments. A small government agency plan is not required. Actions under the proposed regulation would not affect small government activities in any significant way.

b. This proposed rule would not produce a Federal mandate of $100 million or greater in any year; i.e., it is not a “significant regulatory action” under the Unfunded Mandates Reform Act.

Takings

In accordance with Executive Order 12630, the proposed rule would not have significant takings implications. This proposed rule does not contain a provision for taking of private property. Therefore, a takings implication assessment is not required.

Federalism

This proposed rule would not have sufficient Federalism effects to warrant preparation of a Federalism assessment under Executive Order 13132. It would not interfere with the States' ability to manage themselves or their funds. No significant economic impacts are expected to result from the updating of the list of migratory bird species.

Civil Justice Reform

In accordance with Executive Order 12988, the Office of the Solicitor has determined that the proposed rule would not unduly burden the judicial system and meets the requirements of sections 3(a) and 3(b)(2) of the Order.

Paperwork Reduction Act

We examined this proposed rule under the Paperwork Reduction Act of 1995 (44 U.S.C. 3501 et seq.). There are no new information collection requirements associated with this proposed rule. We are not requiring any new permits, reports, or recordkeeping in this proposed rule.

National Environmental Policy Act (NEPA)

Given that the revision of 50 CFR 10.13 is strictly administrative in nature and will have no or minor environmental effects, it is categorically excluded from further NEPA requirements (43 CFR 46.210(h)).

Endangered Species Act (ESA)

Seventy-five of the species on the proposed List of Migratory Birds are also designated as endangered or threatened in all or some portion of their U.S. range under provisions of the Endangered Species Act of 1973 (16 U.S.C. 1531-44; 50 CFR 17.11). No legal complications arise from the dual listing since the two lists are developed under separate authorities and for different purposes. Because the rule is strictly administrative in nature, it does not require ESA consultation.

Government-to-Government Relationship With Tribes

In accordance with the President's memorandum of April 29, 1994, “Government-to-Government Relations with Native American tribal Governments” (59 FR 22951), Executive Order 13175, and 512 DM 2, we have evaluated potential effects on Federally-recognized Indian tribes and have determined that there are no potential effects. The revisions to existing regulations in this proposed rule are purely administrative in nature and would not interfere with the tribes' ability to manage themselves or their funds or to regulate migratory bird activities on tribal lands.

Energy Supply, Distribution, or Use (Executive Order 13211)

On May 18, 2001, the President issued Executive Order 13211 addressing regulations that significantly affect energy supply, distribution, and use. Executive Order 13211 requires agencies to prepare Statements of Energy Effects when undertaking certain actions. Because this proposed rule only affects the listing of protected species in the United States, it is not a significant regulatory action under Executive Order 12866, and does not significantly affect energy supplies, distribution, or use. Therefore, this action is not a significant energy action and no Statement of Energy Effects is required.

References Cited

A complete list of all references cited is available upon request (see FOR FURTHER INFORMATION CONTACT above).

List of Subjects in 50 CFR Part 10

Exports, Fish, Imports, Law enforcement, Plants, Transportation, Wildlife.

Proposed Regulation Promulgation

For the reasons discussed in the preamble, we propose to amend title 50, chapter I, subchapter B, part 10 of the Code of Federal Regulations, as follows:

PART 10—[AMENDED]

1. The authority citation for part 10 continues to read as follows:

Authority: 18 U.S.C. 42; 16 U.S.C. 703-712; 16 U.S.C. 668a-d; 19 U.S.C. 1202; 16 U.S.C. 1531-1543; 16 U.S.C. 1361-1384, 1401-1407; 16 U.S.C. 742a-742j-l; 16 U.S.C. 3371-3378.

2. Revise § 10.13 to read as follows:

§ 10.13 List of Migratory Birds.

(a) Legal authority for this list. The legal authorities for this list are the Migratory Bird Treaty Act (MBTA; 16 U.S.C. 703-712), the Fish and Wildlife Improvement Act of 1978 (16 U.S.C. 742l), and the Fish and Wildlife Act of 1956 (16 U.S.C. 742a-742j). The MBTA implements Conventions between the United States and four neighboring countries for the protection of migratory birds, as follows:

(1) Canada: Convention between the United States and Great Britain [on behalf of Canada] for the Protection of Migratory Birds, August 16, 1916, 39 Stat. 1702 (T.S. No. 628), as amended;

(2) Mexico: Convention between the United States and Mexico for the Protection of Migratory Birds and Game Mammals, February 7, 1936, 50 Stat. 1311 (T.S. No. 912), as amended;

(3) Japan: Convention between the Government of the United States of America and the Government of Japan for the Protection of Migratory Birds and Birds in Danger of Extinction, and Their Environment, March 4, 1972, 25 U.S.T. 3329 (T.I.A.S. No. 7990); and

(4) Russia: Convention between the United States of America and the Union of Soviet Socialist Republics Concerning the Conservation of Migratory Birds and Their Environment, November 19, 1976, 20 U.S.T. 4647 (T.I.A.S. No. 9073).

(b) Purpose of this list. The purpose is to inform the public of the species protected by regulations that enforce the terms of the MBTA. These regulations, found in parts 10, 20, and 21 of this chapter, cover most aspects of the taking, possession, transportation, sale, purchase, barter, exportation, and importation of migratory birds.

(c) What species are protected as migratory birds? Species protected as migratory birds are listed in two formats to suit the varying needs of the user: Alphabetically in paragraph (c)(1) of this section and taxonomically in paragraph (c)(2) of this section. Taxonomy and nomenclature generally follow the 7th edition of the American Ornithologists' Union's Check-list of North American birds (1998, as amended through 2010). For species not treated by the AOU Check-list, we generally follow The Clements Checklist of Birds of the World (Clements 2007).

(1) Alphabetical listing. Species are listed alphabetically by common (English) group names, with the scientific name of each species following the common name.

ACCENTOR, Siberian, Prunella montanella

AKEKEE, Loxops caeruleirostris

AKEPA, Loxops coccineus

AKIALOA, Greater, Hemignathus ellisianus

AKIAPOLAAU, Hemignathus munroi

AKIKIKI, Oreomystis bairdi

AKOHEKOHE, Palmeria dolei

ALAUAHIO, Maui, Paroreomyza montana

Oahu, Paroreomyza maculata

ALBATROSS, Black-browed, Thalassarche melanophris

Black-footed, Phoebastria nigripes

Laysan, Phoebastria immutabilis

Light-mantled, Phoebetria palpebrata

Short-tailed, Phoebastria albatrus

Shy, Thalassarche cauta

Wandering, Diomedea exulans

Yellow-nosed, Thalassarche chlororhynchos

AMAKIHI, Hawaii, Hemignathus virens

Kauai, Hemignathus kauaiensis

Oahu, Hemignathus flavus

ANHINGA, Anhinga anhinga

ANI, Groove-billed, Crotophaga sulcirostris

Smooth-billed, Crotophaga ani

ANIANIAU, Magumma parva

APAPANE, Himatione sanguinea

AUKLET, Cassin's, Ptychoramphus aleuticus

Crested, Aethia cristatella

Least, Aethia pusilla

Parakeet, Aethia psittacula

Rhinoceros, Cerorhinca monocerata

Whiskered, Aethia pygmaea

AVOCET, American, Recurvirostra americana

BEAN-GOOSE, Taiga, Anser fabalis

Tundra, Anser serrirostris

BEARDLESS-TYRANNULET, Northern, Camptostoma imberbe

BECARD, Rose-throated, Pachyramphus aglaiae

BITTERN, American, Botaurus lentiginosus

Black, Ixobrychus flavicollis

Least, Ixobrychus exilis

Schrenck's, Ixobrychus eurhythmus

Yellow, Ixobrychus sinensis

BLACK-HAWK, Common, Buteogallus anthracinus

BLACKBIRD, Brewer's, Euphagus cyanocephalus

Red-winged, Agelaius phoeniceus

Rusty, Euphagus carolinus

Tawny-shouldered, Agelaius humeralis

Tricolored, Agelaius tricolor

Yellow-headed, Xanthocephalus xanthocephalus

Yellow-shouldered, Agelaius xanthomus

BLUEBIRD, Eastern, Sialia sialis

Mountain, Sialia currucoides

Western, Sialia mexicana

BLUETAIL, Red-flanked, Tarsiger cyanurus

BLUETHROAT, Luscinia svecica

BOBOLINK, Dolichonyx oryzivorus

BOOBY, Blue-footed, Sula nebouxii

Brown, Sula leucogaster

Masked, Sula dactylatra

Red-footed, Sula sula

BRAMBLING, Fringilla montifringilla

BRANT, Branta bernicla

BUFFLEHEAD, Bucephala albeola

BULLFINCH, Eurasian, Pyrrhula pyrrhula

Puerto Rican, Loxigilla portoricensis

BUNTING, Blue, Cyanocompsa parellina

Gray, Emberiza variabilis

Indigo, Passerina cyanea

Little, Emberiza pusilla

Lark, Calamospiza melanocorys

Lazuli, Passerina amoena

McKay's, Plectrophenax hyperboreus

Painted, Passerina ciris

Pallas's, Emberiza pallasi

Pine, Emberiza leucocephalos

Reed, Emberiza schoeniclus

Rustic, Emberiza rustica

Snow, Plectrophenax nivalis

Varied, Passerina versicolor

Yellow-breasted, Emberiza aureola

Yellow-browed, Emberiza chrysophrys

Yellow-throated, Emberiza elegans

BUSHTIT, Psaltriparus minimus

CANVASBACK, Aythya valisineria

CARACARA, Crested, Caracara cheriway

CARDINAL, Northern, Cardinalis cardinalis

CARIB, Green-throated, Eulampis holosericeus

Purple-throated, Eulampis jugularis

CATBIRD, Black, Melanoptila glabrirostris

Gray, Dumetella carolinensis

CHAFFINCH, Common, Fringilla coelebs

CHAT, Yellow-breasted, Icteria virens

CHICKADEE, Black-capped, Poecile atricapillus

Boreal, Poecile hudsonicus

Carolina, Poecile carolinensis

Chestnut-backed, Poecile rufescens

Gray-headed, Poecile cinctus

Mexican, Poecile sclateri

Mountain, Poecile gambeli

CHUCK-WILL'S-WIDOW, Caprimulgus carolinensis

CONDOR, California, Gymnogyps californianus

COOT, American, Fulica americana

Caribbean, Fulica caribaea

Eurasian, Fulica atra

Hawaiian, Fulica alai

CORMORANT, Brandt's, Phalacrocorax penicillatus

Double-crested, Phalacrocorax auritus

Great, Phalacrocorax carbo

Little Pied, Phalacrocorax melanoleucos

Neotropic, Phalacrocorax brasilianus

Pelagic, Phalacrocorax pelagicus

Red-faced, Phalacrocorax urile

COWBIRD, Bronzed, Molothrus aeneus

Brown-headed, Molothrus ater

Shiny, Molothrus bonariensis

CRAKE, Corn, Crex crex

Paint-billed, Neocrex erythrops

Spotless, Porzana tabuensis

Yellow-breasted, Porzana flaviventer

CRANE, Common, Grus grus

Sandhill, Grus canadensis

Whooping, Grus americana

CREEPER, Brown, Certhia americana

Hawaii, Oreomystis mana

CROSSBILL, Red, Loxia curvirostra

White-winged, Loxia leucoptera

CROW, American, Corvus brachyrhynchos

Fish, Corvus ossifragus

Hawaiian, Corvus hawaiiensis

Mariana, Corvus kubaryi

Northwestern, Corvus caurinus

Tamaulipas, Corvus imparatus

White-necked, Corvus leucognaphalus

CUCKOO, Black-billed, Coccyzus erythropthalmus

Common, Cuculus canorus

Mangrove, Coccyzus minor

Oriental, Cuculus optatus

Yellow-billed, Coccyzus americanus

CURLEW, Bristle-thighed, Numenius tahitiensis

Eskimo, Numenius borealis

Eurasian, Numenius arquata

Far Eastern, Numenius madagascariensis

Little, Numenius minutus

Long-billed, Numenius americanus

DICKCISSEL, Spiza americana

DIPPER, American, Cinclus mexicanus

DOTTEREL, Eurasian, Charadrius morinellus

DOVE, Inca, Columbina inca

Mourning, Zenaida macroura

White-tipped, Leptotila verreauxi

White-winged, Zenaida asiatica

Zenaida, Zenaida aurita

DOVEKIE, Alle alle

DOWITCHER, Long-billed, Limnodromus scolopaceus

Short-billed, Limnodromus griseus

DUCK, American Black, Anas rubripes

Eastern Spot-billed, Anas zonorhyncha

Falcated, Anas falcata

Harlequin, Histrionicus histrionicus

Hawaiian, Anas wyvilliana

Laysan, Anas laysanensis

Long-tailed, Clangula hyemalis

Masked, Nomonyx dominicus

Mottled, Anas fulvigula

Muscovy, Cairina moschata

Pacific Black, Anas superciliosa

Ring-necked, Aythya collaris

Ruddy, Oxyura jamaicensis

Tufted, Aythya fuligula

Wood, Aix sponsa

DUNLIN, Calidris alpina

EAGLE, Bald, Haliaeetus leucocephalus

Golden, Aquila chrysaetos

White-tailed, Haliaeetus albicilla

EGRET, Cattle, Bubulcus ibis

Chinese, Egretta eulophotes

Great, Ardea alba

Intermediate, Mesophoyx intermedia

Little, Egretta garzetta

Reddish, Egretta rufescens

Snowy, Egretta thula

EIDER, Common, Somateria mollissima

King, Somateria spectabilis

Spectacled, Somateria fischeri

Steller's, Polysticta stelleri

ELAENIA, Caribbean, Elaenia martinica

Greenish, Myiopagis viridicata

White-crested, Elaenia albiceps

EMERALD, Puerto Rican, Chlorostilbon maugaeus

EUPHONIA, Antillean, Euphonia musica

FALCON, Aplomado, Falco femoralis

Peregrine, Falco peregrinus

Prairie, Falco mexicanus

Red-footed, Flaco vespertinus

FIELDFARE, Turdus pilaris

FINCH, Cassin's, Carpodacus cassinii

House, Carpodacus mexicanus

Laysan, Telespiza cantans

Nihoa, Telespiza ultima

Purple, Carpodacus purpureus

FLAMINGO, American, Phoenicopterus ruber

FLICKER, Gilded, Colaptes chrysoides

Northern, Colaptes auratus

FLYCATCHER, Acadian, Empidonax virescens

Alder, Empidonax alnorum

Ash-throated, Myiarchus cinerascens

Asian Brown, Muscicapa dauurica

Brown-crested, Myiarchus tyrannulus

Buff-breasted, Empidonax fulvifrons

Cordilleran, Empidonax occidentalis

Crowned Slaty, Empidonomus aurantioatrocristatus

Dark-sided, Muscicapa sibirica

Dusky, Empidonax oberholseri

Dusky-capped, Myiarchus tuberculifer

Fork-tailed, Tyrannus savana

Gray, Empidonax wrightii

Gray-streaked, Muscicapa griseisticta

Great Crested, Myiarchus crinitus

Hammond's, Empidonax hammondii

La Sagra's, Myiarchus sagrae

Least, Empidonax minimus

Mugimaki, Ficedula mugimaki

Narcissus, Ficedula narcissina

Nutting's, Myiarchus nuttingi

Olive-sided, Contopus cooperi

Pacific-slope, Empidonax difficilis

Piratic, Legatus leucophalus

Puerto Rican, Myiarchus antillarum

Scissor-tailed, Tyrannus forficatus

Social, Myiozetetes similis

Spotted, Muscicapa striata

Sulphur-bellied, Myiodynastes luteiventris

Taiga, Ficedula albicilla

Tufted, Mitrephanes phaeocercus

Variegated, Empidonomus varius

Vermilion, Pyrocephalus rubinus

Willow, Empidonax traillii

Yellow-bellied, Empidonax flaviventris

FOREST-FALCON, Collared, Micrastur semitorquatus

FRIGATEBIRD, Great, Fregata minor

Lesser, Fregata ariel

Magnificent, Fregata magnificens

FROG-HAWK, Gray, Accipiter soloensis

FRUIT-DOVE, Crimson-crowned, Ptilinopus porphyraceus

Many-colored, Ptilinopus perousii

Mariana, Ptilinopus roseicapilla

FULMAR, Northern, Fulmarus glacialis

GADWALL, Anas strepera

GALLINULE, Azure, Porphyrio flavirostris

Purple, Porphyrio martinica

GANNET, Northern, Morus bassanus

GARGANEY, Anas querquedula

GNATCATCHER, Black-capped, Polioptila nigriceps

Black-tailed, Polioptila melanura

Blue-gray, Polioptila caerulea

California, Polioptila californica

GODWIT, Bar-tailed, Limosa lapponica

Black-tailed, Limosa limosa

Hudsonian, Limosa haemastica

Marbled, Limosa fedoa

GOLDEN-PLOVER, American, Pluvialis dominica

European, Pluvialis apricaria

Pacific, Pluvialis fulva

GOLDENEYE, Barrow's, Bucephala islandica

Common, Bucephala clangula

GOLDFINCH, American, Spinus tristis

Lawrence's, Spinus lawrencei

Lesser, Spinus psaltria

GOOSE, Barnacle, Branta leucopsis

Canada, Branta canadensis (including Cackling Goose, Branta hutchinsii)

Emperor, Chen canagica

Greater White-fronted, Anser albifrons

Hawaiian, Branta sandvicensis

Lesser White-fronted, Anser erythropus

Ross's, Chen rossii

Snow, Chen caerulescens

GOSHAWK, Northern, Accipiter gentilis

GRACKLE, Boat-tailed, Quiscalus major

Common, Quiscalus quiscula

Great-tailed, Quiscalus mexicanus

Greater Antillean, Quiscalus niger

GRASSHOPPER-WARBLER, Middendorff's, Locustella ochotensis

GRASSQUIT, Black-faced, Tiaris bicolor

Yellow-faced, Tiaris olivaceus

GREBE, Clark's, Aechmophorus clarkii

Eared, Podiceps nigricollis

Horned, Podiceps auritus

Least, Tachybaptus dominicus

Pied-billed, Podilymbus podiceps

Red-necked, Podiceps grisegena

Western, Aechmophorus occidentalis

GREENFINCH, Oriental, Chloris sinica

GREENSHANK, Common, Tringa nebularia

Nordmann's, Tringa guttifer

GROSBEAK, Black-headed, Pheucticus melanocephalus

Blue, Passerina caerulea

Crimson-collared, Rhodothraupis celaeno

Evening, Coccothraustes vespertinus

Pine, Pinicola enucleator

Rose-breasted, Pheucticus ludovicianus

Yellow, Pheucticus chrysopeplus

GROUND-DOVE, Common, Columbina passerina

Friendly, Gallicolumba stairi

Ruddy, Columbina talpacoti

White-throated, Gallicolumba xanthonura

GUILLEMOT, Black, Cepphus grylle

Pigeon, Cepphus columba

GULL, Belcher's, Larus belcheri

Black-headed, Chroicocephalus ridibundus

Black-tailed, Larus crassirostris

Bonaparte's, Chroicocephalus philadelphia

California, Larus californicus

Franklin's, Leucophaeus pipixcan

Glaucous, Larus hyperboreus

Glaucous-winged, Larus glaucescens

Gray-hooded, Chroicocephalus cirrocephalus

Great Black-backed, Larus marinus

Heermann's, Larus heermanni

Herring, Larus argentatus

Iceland, Larus glaucoides

Ivory, Pagophila eburnea

Kelp, Larus dominicanus

Laughing, Leucophaeus atricilla

Lesser Black-backed, Larus fuscus

Little, Hydrocoloeus minutus

Mew, Larus canus

Ring-billed, Larus delawarensis

Ross's, Rhodostethia rosea

Sabine's, Xema sabini

Slaty-backed, Larus schistisagus

Swallow-tailed, Creagrus furcatus

Thayer's, Larus thayeri

Western, Larus occidentalis

Yellow-footed, Larus livens

Yellow-legged, Larus michahellis

GYRFALCON, Falco rusticolus

HARRIER, Northern, Circus cyaneus

HAWFINCH, Coccothraustes coccothraustes

HAWK, Broad-winged, Buteo platypterus

Cooper's, Accipiter cooperii

Crane, Geranospiza caerulescens

Ferruginous, Buteo regalis

Gray, Buteo nitidus

Harris's, Parabuteo unicinctus

Hawaiian, Buteo solitarius

Red-shouldered, Buteo lineatus

Red-tailed, Buteo jamaicensis

Roadside, Buteo magnirostris

Rough-legged, Buteo lagopus

Sharp-shinned, Accipiter striatus

Short-tailed, Buteo brachyurus

Swainson's, Buteo swainsoni

White-tailed, Buteo albicaudatus

Zone-tailed, Buteo albonotatus

HAWK-CUCKOO, Hodgson's, Cuculus fugax

HAWK-OWL, Brown, Ninox scutulata

HERON, Gray, Ardea cinerea

Great Blue, Ardea herodias

Green, Butorides virescens

Little Blue, Egretta caerulea

Tricolored, Egretta tricolor

HOBBY, Eurasian, Falco subbuteo

HOOPOE, Eurasian, Upupa epops

HOUSE-MARTIN, Common, Delichon urbicum

HUMMINGBIRD, Allen's, Selasphorus sasin

Anna's, Calypte anna

Antillean Crested, Orthorhyncus cristatus

Berylline, Amazilia beryllina

Black-chinned, Archilochus alexandri

Blue-throated, Lampornis clemenciae

Broad-billed, Cynanthus latirostris

Broad-tailed, Selasphorus platycercus

Buff-bellied, Amazilia yucatanensis

Bumblebee, Atthis heloisa

Calliope, Stellula calliope

Cinnamon, Amazilia rutila

Costa's, Calypte costae

Lucifer, Calothorax lucifer

Magnificent, Eugenes fulgens

Ruby-throated, Archilochus colubris

Rufous, Selasphorus rufus

Violet-crowned, Amazilia violiceps

White-eared, Hylocharis leucotis

Xantus's, Hylocharis xantusii

IBIS, Glossy, Plegadis falcinellus

Scarlet, Eudocimus ruber

White, Eudocimus albus

White-faced, Plegadis chihi

IIWI, Vestiaria coccinea

IMPERIAL-PIGEON, Pacific, Ducula pacifica

JABIRU, Jabiru mycteria

JACANA, Northern, Jacana spinosa

JAEGER, Long-tailed, Stercorarius longicaudus

Parasitic, Stercorarius parasiticus

Pomarine, Stercorarius pomarinus

JAY, Blue, Cyanocitta cristata

Brown, Psilorhinus morio

Gray, Perisoreus canadensis

Green, Cyanocorax yncas

Mexican, Aphelocoma ultramarina

Pinyon, Gymnorhinus cyanocephalus

Steller's, Cyanocitta stelleri

JUNCO, Dark-eyed, Junco hyemalis

Yellow-eyed, Junco phaeonotus

KAKAWAHIE, Paroreomyza flammea

KAMAO, Myadestes myadestinus

KESTREL, American, Falco sparverius

Eurasian, Falco tinnunculus

KILLDEER, Charadrius vociferus

KINGBIRD, Cassin's, Tyrannus vociferans

Couch's, Tyrannus couchii

Eastern, Tyrannus tyrannus

Gray, Tyrannus dominicensis

Loggerhead, Tyrannus caudifasciatus

Thick-billed, Tyrannus crassirostris

Tropical, Tyrannus melancholicus

Western, Tyrannus verticalis

KINGFISHER, Belted, Megaceryle alcyon

Collared, Todirhamphus chloris

Green, Chloroceryle americana

Micronesian, Todirhamphus cinnamominus

Ringed, Megaceryle torquata

KINGLET, Golden-crowned, Regulus satrapa

Ruby-crowned, Regulus calendula

KISKADEE, Great, Pitangus sulphuratus

KITE, Black, Milvus migrans

Hook-billed, Chondrohierax uncinatus

Mississippi, Ictinia mississippiensis

Snail, Rostrhamus sociabilis

Swallow-tailed, Elanoides forficatus

White-tailed, Elanus leucurus

KITTIWAKE, Black-legged, Rissa tridactyla

Red-legged, Rissa brevirostris

KNOT, Great, Calidris tenuirostris

Red, Calidris canutus

LAPWING, Northern, Vanellus vanellus

LARK, Horned, Eremophila alpestris

Sky, Alauda arvensis

LEAF-WARBLER, Pallas's, Phylloscopus proregulus

LIMPKIN, Aramus guarauna

LIZARD-CUCKOO, Puerto Rican, Coccyzus vieilloti

LONGSPUR, Chestnut-collared, Calcarius ornatus

Lapland, Calcarius lapponicus

McCown's, Rhynchophanes mccownii

Smith's, Calcarius pictus

LOON, Arctic, Gavia arctica

Common, Gavia immer

Pacific, Gavia pacifica

Red-throated, Gavia stellata

Yellow-billed, Gavia adamsii

MAGPIE, Black-billed, Pica hudsonia

Yellow-billed, Pica nuttalli

MALLARD, Anas platyrhynchos

MANGO, Antillean, Anthracothorax dominicus

Green, Anthracothorax viridis

Green-breasted, Anthracothorax prevostii

MARTIN, Brown-chested, Progne tapera

Caribbean, Progne dominicensis

Cuban, Progne cryptoleuca

Gray-breasted, Progne chalybea

Purple, Progne subis

Southern, Progne elegans

MEADOWLARK, Eastern, Sturnella magna

Western, Sturnella neglecta

MERGANSER, Common, Mergus merganser

Hooded, Lophodytes cucullatus

Red-breasted, Mergus serrator

MERLIN, Falco columbarius

MILLERBIRD, Acrocephalus familiaris

MOCKINGBIRD, Bahama, Mimus gundlachii

Blue, Melanotis caerulescens

Northern, Mimus polyglottos

MOORHEN, Common, Gallinula chloropus

MURRE, Common, Uria aalge

Thick-billed, Uria lomvia

MURRELET, Ancient, Synthliboramphus antiquus

Craveri's, Synthliboramphus craveri

Kittlitz's, Brachyramphus brevirostris

Long-billed, Brachyramphus perdix

Marbled, Brachyramphus marmoratus

Xantus's, Synthliboramphus hypoleucus

NEEDLETAIL, White-throated, Hirundapus caudacutus

NIGHT-HERON, Black-crowned, Nycticorax nycticorax

Japanese, Gorsachius goisagi

Malayan, Gorsachius melanolophus

Yellow-crowned, Nyctanassa violacea

NIGHTHAWK, Antillean, Chordeiles gundlachii

Common, Chordeiles minor

Lesser, Chordeiles acutipennis

NIGHTINGALE-THRUSH, Black-headed, Catharus mexicanus

Orange-billed, Catharus aurantiirostris

NIGHTJAR, Buff-collared, Caprimulgus ridgwayi

Gray, Caprimulgus indicus

Puerto Rican, Caprimulgus noctitherus

NODDY, Black, Anous minutus

Blue-gray, Procelsterna cerulea

Brown, Anous stolidus

NUKUPUU, Hemignathus lucidus

NUTCRACKER, Clark's, Nucifraga columbiana

NUTHATCH, Brown-headed, Sitta pusilla

Pygmy, Sitta pygmaea

Red-breasted, Sitta canadensis

White-breasted, Sitta carolinensis

OLOMAO, Myadestes lanaiensis

OMAO, Myadestes obscurus

ORIOLE, Altamira, Icterus gularis

Audubon's, Icterus graduacauda

Baltimore, Icterus galbula

Black-vented, Icterus wagleri

Bullock's, Icterus bullockii

Hooded, Icterus cucullatus

Orchard, Icterus spurius

Puerto Rican, Icterus portoricensis

Scott's, Icterus parisorum

Streak-backed, Icterus pustulatus

OSPREY, Pandion haliaetus

OU, Psittirostra psittacea

OVENBIRD, Seiurus aurocapilla

OWL, Barn, Tyto alba

Barred, Strix varia

Boreal, Aegolius funereus

Burrowing, Athene cunicularia

Elf, Micrathene whitneyi

Flammulated, Otus flammeolus

Great Gray, Strix nebulosa

Great Horned, Bubo virginianus

Long-eared, Asio otus

Mottled, Ciccaba virgata

Northern Hawk, Surnia ulula

Northern Saw-whet, Aegolius acadicus

Short-eared, Asio flammeus

Snowy, Bubo scandiacus

Spotted, Strix occidentalis

Stygian, Asio stygius

OYSTERCATCHER, American, Haematopus palliatus

Black, Haematopus bachmani

Eurasian, Haematopus ostralegus

PALILA, Loxioides bailleui

PALM-SWIFT, Antillean, Tachornis phoenicobia

PARROTBILL, Maui, Pseudonestor xanthophrys

PARULA, Northern, Parula americana

Tropical, Parula pitiayumi

PAURAQUE, Common, Nyctidromus albicollis

PELICAN, American White, Pelecanus erythrorhynchos

Brown, Pelecanus occidentalis

PETREL, Bermuda, Pterodroma cahow

Black-capped, Pterodroma hasitata

Black-winged, Pterodroma nigripennis

Bonin, Pterodroma hypoleuca

Bulwer's, Bulweria bulwerii

Cook's, Pterodroma cookii

Gould's, Pterodroma leucoptera

Great-winged, Pterodroma macroptera

Hawaiian, Pterodroma sandwichensis

Herald, Pterodroma arminjoniana

Jouanin's, Bulweria fallax

Juan Fernandez, Pterodroma externa

Kermadec, Pterodroma neglecta

Mottled, Pterodroma inexpectata

Murphy's, Pterodroma ultima

Parkinson's, Procellaria parkinsoni

Phoenix, Pterodroma alba

Stejneger's, Pterodroma longirostris

Tahiti, Pterodroma rostrata

White-necked, Pterodroma cervicalis

PEWEE, Cuban, Contopus caribaeus

Greater, Contopus pertinax

Hispaniolan, Contopus hispaniolensis

Lesser Antillean, Contopus latirostris

PHAINOPEPLA, Phainopepla nitens

PHALAROPE, Red, Phalaropus fulicarius

Red-necked, Phalaropus lobatus

Wilson's, Phalaropus tricolor

PHOEBE, Black, Sayornis nigricans

Eastern, Sayornis phoebe

Say's, Sayornis saya

PIGEON, Band-tailed, Patagioenas fasciata

Plain, Patagioenas inornata

Red-billed, Patagioenas flavirostris

Scaly-naped, Patagioenas squamosa

White-crowned, Patagioenas leucocephala

PINTAIL, Northern, Anas acuta

White-cheeked, Anas bahamensis

PIPIT, American, Anthus rubescens

Olive-backed, Anthus hodgsoni

Pechora, Anthus gustavi

Red-throated, Anthus cervinus

Sprague's, Anthus spragueii

Tree, Anthus trivialis

PLOVER, Black-bellied, Pluvialis squatarola

Collared, Charadrius collaris

Common Ringed, Charadrius hiaticula

Little Ringed, Charadrius dubius

Mountain, Charadrius montanus

Piping, Charadrius melodus

Semipalmated, Charadrius semipalmatus

Snowy, Charadrius alexandrinus

Wilson's, Charadrius wilsonia

POCHARD, Baer's, Aythya baeri

Common, Aythya ferina

POND-HERON, Chinese, Ardeola bacchus

POORWILL, Common, Phalaenoptilus nuttallii

POO-ULI, Melamprosops phaeosoma

PUAIOHI, Myadestes palmeri

PUFFIN, Atlantic, Fratercula arctica

Horned, Fratercula corniculata

Tufted, Fratercula cirrhata

PYGMY-OWL, Ferruginous, Glaucidium brasilianum

Northern, Glaucidium gnoma

PYRRHULOXIA, Cardinalis sinuatus

QUAIL-DOVE, Bridled, Geotrygon mystacea

Key West, Geotrygon chrysia

Ruddy, Geotrygon montana

QUETZEL, Eared, Euptilotis neoxenus

RAIL, Black, Laterallus jamaicensis

Buff-banded, Gallirallus philippensis

Clapper, Rallus longirostris

Guam, Gallirallus owstoni

King, Rallus elegans

Spotted, Pardirallus maculatus

Virginia, Rallus limicola

Yellow, Coturnicops noveboracensis

RAVEN, Chihuahuan, Corvus cryptoleucus

Common, Corvus corax

RAZORBILL, Alca torda

REDHEAD, Aythya americana

REDPOLL, Common, Acanthis flammea

Hoary, Acanthis hornemanni

REDSHANK, Spotted, Tringa erythropus

REDSTART, American, Setophaga ruticilla

Painted, Myioborus pictus

Slate-throated, Myioborus miniatus

REED-WARBLER, Nightingale, Acrocephalus luscinia

REEF-EGRET, Pacific, Egretta sacra

REEF-HERON, Western, Egretta gularis

ROADRUNNER, Greater, Geococcyx californianus

ROBIN, American, Turdus migratorius

Rufous-backed, Turdus rufopalliatus

Rufous-tailed, Luscinia sibilans

Siberian Blue, Luscinia cyane

ROCK-THRUSH, Blue, Monticola solitarius

ROSEFINCH, Common, Carpodacus erythrinus

ROSY-FINCH, Black, Leucosticte atrata

Brown-capped, Leucosticte australis

Gray-crowned, Leucosticte tephrocotis

RUBYTHROAT, Siberian, Luscinia calliope

RUFF, Philomachus pugnax

SANDERLING, Calidris alba

SANDPIPER, Baird's, Calidris bairdii

Broad-billed, Limicola falcinellus

Buff-breasted, Tryngites subruficollis

Common, Actitis hypoleucos

Curlew, Calidris ferruginea

Green, Tringa ochropus

Least, Calidris minutilla

Marsh, Tringa stagnatilis

Pectoral, Calidris melanotos

Purple, Calidris maritima

Rock, Calidris ptilocnemis

Semipalmated, Calidris pusilla

Sharp-tailed, Calidris acuminata

Solitary, Tringa solitaria

Spoon-billed, Eurynorhynchus pygmeus

Spotted, Actitis macularius

Stilt, Calidris himantopus

Terek, Xenus cinereus

Upland, Bartramia longicauda

Western, Calidris mauri

White-rumped, Calidris fuscicollis

Wood, Tringa glareola

SAND-PLOVER, Greater, Charadrius leschenaultii

Lesser, Charadrius mongolus

SAPSUCKER, Red-breasted, Sphyrapicus ruber

Red-naped, Sphyrapicus nuchalis

Williamson's, Sphyrapicus thyroideus

Yellow-bellied, Sphyrapicus varius

SCAUP, Greater, Aythya marila

Lesser, Aythya affinis

SCOPS-OWL, Oriental, Otus sunia

SCOTER, Black, Melanitta americana

Surf, Melanitta perspicillata

White-winged, Melanitta fusca

SCREECH-OWL, Eastern, Megascops asio

Puerto Rican, Megascops nudipes

Western, Megascops kennicottii

Whiskered, Megascops trichopsis

SCRUB-JAY, Florida, Aphelocoma coerulescens

Island, Aphelocoma insularis

Western, Aphelocoma californica

SEA-EAGLE, Steller's, Haliaeetus pelagicus

SEEDEATER, White-collared, Sporophila torqueola

SHEARWATER, Audubon's, Puffinus lherminieri

Black-vented, Puffinus opisthomelas

Buller's, Puffinus bulleri

Cape Verde, Calonectris edwardsii

Christmas, Puffinus nativitatis

Cory's, Calonectris diomedea

Flesh-footed, Puffinus carneipes

Great, Puffinus gravis

Little, Puffinus assimilis

Manx, Puffinus puffinus

Pink-footed, Puffinus creatopus

Short-tailed, Puffinus tenuirostris

Sooty, Puffinus griseus

Streaked, Calonectris leucomelas

Townsend's, Puffinus auricularis

Wedge-tailed, Puffinus pacificus

SHOVELER, Northern, Anas clypeata

SHRIKE, Brown, Lanius cristatus

Loggerhead, Lanius ludovicianus

Northern, Lanius excubitor

SILKY-FLYCATCHER, Gray, Ptilogonys cinereus

SISKIN, Eurasian, Spinus spinus

Pine, Spinus pinus

SKIMMER, Black, Rynchops niger

SKUA, Great, Stercorarius skua

South Polar, Stercorarius maccormicki

SMEW, Mergellus albellus

SNIPE, Common, Gallinago gallinago

Jack, Lymnocryptes minimus

Pin-tailed, Gallinago stenura

Swinhoe's, Gallinago megala

Wilson's, Gallinago delicata

SOLITAIRE, Townsend's, Myadestes townsendi

SORA, Porzana carolina

SPARROW, American Tree, Spizella arborea

Bachman's, Peucaea aestivalis

Baird's, Ammodramus bairdii

Black-chinned, Spizella atrogularis

Black-throated, Amphispiza bilineata

Botteri's, Peucaea botterii

Brewer's, Spizella breweri

Cassin's, Peucaea cassinii

Chipping, Spizella passerina

Clay-colored, Spizella pallida

Field, Spizella pusilla

Five-striped, Amphispiza quinquestriata

Fox, Passerella iliaca

Golden-crowned, Zonotrichia atricapilla

Grasshopper, Ammodramus savannarum

Harris's, Zonotrichia querula

Henslow's, Ammodramus henslowii

Lark, Chondestes grammacus

Le Conte's, Ammodramus leconteii

Lincoln's, Melospiza lincolnii

Nelson's, Ammodramus nelsoni

Olive, Arremonops rufivirgatus

Rufous-crowned, Aimophila ruficeps

Rufous-winged, Peucaea carpalis

Sage, Amphispiza belli

Saltmarsh, Ammodramus caudacutus

Savannah, Passerculus sandwichensis

Seaside, Ammodramus maritimus

Song, Melospiza melodia

Swamp, Melospiza georgiana

Vesper, Pooecetes gramineus

White-crowned, Zonotrichia leucophrys

White-throated, Zonotrichia albicollis

Worthen's, Spizella wortheni

SPARROWHAWK, Japanese, Accipiter gularis

SPINDALIS, Puerto Rican, Spindalis portoricensis

Western, Spindalis zena

SPOONBILL, Roseate, Platalea ajaja

STARLING, Chestnut-cheeked, Sturnus philippensis

White-cheeked, Sturnus cineraceus

STARTHROAT, Plain-capped, Heliomaster constantii

STILT, Black-necked, Himantopus mexicanus

Black-winged, Himantopus himantopus

STINT, Little, Calidris minuta

Long-toed, Calidris subminuta

Red-necked, Calidris ruficollis

Temminck's, Calidris temminckii

STONECHAT, Saxicola torquatus

STORK, Wood, Mycteria americana

STORM-PETREL, Ashy, Oceanodroma homochroa

Band-rumped, Oceanodroma castro

Black, Oceanodroma melania

Black-bellied, Fregetta tropica

Fork-tailed, Oceanodroma furcata

Leach's, Oceanodroma leucorhoa

Least, Oceanodroma microsoma

Matsudaira's, Oceanodroma matsudairae

Polynesian, Nesofregetta fuliginosa

Ringed, Oceanodroma hornbyi

Swinhoe's, Oceanodroma monorhis

Tristram's, Oceanodroma tristrami

Wedge-rumped, Oceanodroma tethys

White-faced, Pelagodroma marina

White-bellied, Fregetta grallaria

Wilson's, Oceanites oceanicus

SURFBIRD, Aphriza virgata

SWALLOW, Bahama, Tachycineta cyaneoviridis

Bank, Riparia riparia

Barn, Hirundo rustica

Cave, Petrochelidon fulva

Cliff, Petrochelidon pyrrhonota

Mangrove, Tachycineta albilinea

Northern Rough-winged, Stelgidopteryx serripennis

Tree, Tachycineta bicolor

Violet-green, Tachycineta thalassina

SWAMPHEN, Purple, Porphyrio porphyrio

SWAN, Trumpeter, Cygnus buccinator

Tundra, Cygnus columbianus

Whooper, Cygnus cygnus

SWIFT, Alpine, Apus melba

Black, Cypseloides niger

Chimney, Chaetura pelagica

Common, Apus apus

Fork-tailed, Apus pacificus

Short-tailed, Chaetura brachyura

Vaux's, Chaetura vauxi

White-collared, Streptoprocne zonaris

White-throated, Aeronautes saxatalis

SWIFTLET, Mariana, Aerodramus bartschi

White-rumped, Aerodramus spodiopygius

TANAGER, Flame-colored, Piranga bidentata

Hepatic, Piranga flava

Puerto Rican, Nesospingus speculiferus

Scarlet, Piranga olivacea

Summer, Piranga rubra

Western, Piranga ludoviciana

TATTLER, Gray-tailed, Tringa brevipes

Wandering, Tringa incana

TEAL, Baikal, Anas formosa

Blue-winged, Anas discors

Cinnamon, Anas cyanoptera

Green-winged, Anas crecca

TERN, Aleutian, Onychoprion aleuticus

Arctic, Sterna paradisaea

Black, Chlidonias niger

Black-naped, Sterna sumatrana

Bridled, Onychoprion anaethetus

Caspian, Hydroprogne caspia

Common, Sterna hirundo

Elegant, Thalasseus elegans

Forster's, Sterna forsteri

Gray-backed, Onychoprion lunatus

Great Crested, Thalasseus bergii

Gull-billed, Gelochelidon nilotica

Large-billed, Phaetusa simplex

Least, Sternula antillarum

Little, Sternula albifrons

Roseate, Sterna dougallii

Royal, Thalesseus maximus

Sandwich, Thalesseus sandvicensis

Sooty, Onychoprion fuscatus

Whiskered, Chlidonias hybrida

White, Gygis alba

White-winged, Chlidonias leucopterus

THRASHER, Bendire's, Toxostoma bendirei

Brown, Toxostoma rufum

California, Toxostoma redivivum

Crissal, Toxostoma crissale

Curve-billed, Toxostoma curvirostre

Le Conte's, Toxostoma lecontei

Long-billed, Toxostoma longirostre

Pearly-eyed, Margarops fuscatus

Sage, Oreoscoptes montanus

THRUSH, Aztec, Ridgwayia pinicola

Bicknell's, Catharus bicknelli

Clay-colored, Turdus grayi

Dusky, Turdus naumanni

Eyebrowed, Turdus obscurus

Gray-cheeked, Catharus minimus

Hermit, Catharus guttatus

Red-legged, Turdus plumbeus

Swainson's, Catharus ustulatus

Varied, Ixoreus naevius

White-throated, Turdus assimilis

Wood, Hylocichla mustelina

TITMOUSE, Black-crested, Baeolophus atricristatus

Bridled, Baeolophus wollweberi

Juniper, Baeolophus ridgwayi

Oak, Baeolophus inornatus

Tufted, Baeolophus bicolor

TITYRA, Masked, Tityra semifasciata

TOWHEE, Abert's, Melozone aberti

California, Melozone crissalis

Canyon, Melozone fusca

Eastern, Pipilo erythrophthalmus

Green-tailed, Pipilo chlorurus

Spotted, Pipilo maculatus

TROGON, Elegant, Trogon elegans

TROPICBIRD, Red-billed, Phaethon aethereus

Red-tailed, Phaethon rubricauda

White-tailed, Phaethon lepturus

TURNSTONE, Black, Arenaria melanocephala

Ruddy, Arenaria interpres

TURTLE-DOVE, Oriental, Streptopelia orientalis

VEERY, Catharus fuscescens

VERDIN, Auriparus flaviceps

VIOLETEAR, Green, Colibri thalassinus

VIREO, Bell's, Vireo bellii

Black-capped, Vireo atricapillus

Black-whiskered, Vireo altiloquus

Blue-headed, Vireo solitarius

Cassin's, Vireo cassinii

Gray, Vireo vicinior

Hutton's, Vireo huttoni

Philadelphia, Vireo philadelphicus

Plumbeous, Vireo plumbeus

Puerto Rican, Vireo latimeri

Red-eyed, Vireo olivaceus

Thick-billed, Vireo crassirostris

Warbling, Vireo gilvus

White-eyed, Vireo griseus

Yellow-green, Vireo flavoviridis

Yellow-throated, Vireo flavifrons

Yucatan, Vireo magister

VULTURE, Black, Coragyps atratus

Turkey, Cathartes aura

WAGTAIL, Citrine, Motacilla citreola

Eastern Yellow, Motacilla tschutschensis

Gray, Motacilla cinerea

White, Motacilla alba

WARBLER, Adelaide's, Dendroica adelaidae

Arctic, Phylloscopus borealis

Bachman's, Vermivora bachmanii

Bay-breasted, Dendroica castanea

Black-and-white, Mniotilta varia

Black-throated Blue, Dendroica caerulescens

Black-throated Gray, Dendroica nigrescens

Black-throated Green, Dendroica virens

Blackburnian, Dendroica fusca

Blackpoll, Dendroica striata

Blue-winged, Vermivora cyanoptera

Canada, Wilsonia canadensis

Cape May, Dendroica tigrina

Cerulean, Dendroica cerulea

Chestnut-sided, Dendroica pensylvanica

Colima, Oreothlypis crissalis

Connecticut, Oporornis agilis

Crescent-chested, Oreothlypis superciliosa

Dusky, Phylloscopus fuscatus

Elfin-woods, Dendroica angelae

Fan-tailed, Euthlypis lachrymosa

Golden-cheeked, Dendroica chrysoparia

Golden-crowned, Basileuterus culicivorus

Golden-winged, Vermivora chrysoptera

Grace's, Dendroica graciae

Hermit, Dendroica occidentalis

Hooded, Wilsonia citrina

Kentucky, Oporornis formosus

Kirtland's, Dendroica kirtlandii

Lanceolated, Locustella lanceolata

Lucy's, Oreothlypis luciae

MacGillivray's, Oporornis tolmiei

Magnolia, Dendroica magnolia

Mourning, Oporornis philadelphia

Nashville, Oreothlypis ruficapilla

Olive, Peucedramus taeniatus

Orange-crowned, Oreothlypis celata

Palm, Dendroica palmarum

Pine, Dendroica pinus

Prairie, Dendroica discolor

Prothonotary, Protonotaria citrea

Red-faced, Cardellina rubrifrons

Rufous-capped, Basileuterus rufifrons

Sedge, Acrocephalus schoenobaenus

Swainson's, Limnothlypis swainsonii

Tennessee, Oreothlypis peregrina

Townsend's, Dendroica townsendi

Virginia's, Oreothlypis virginiae

Willow, Phylloscopus trochilus

Wilson's, Wilsonia pusilla

Wood, Phylloscopus sibilatrix

Worm-eating, Helmitheros vermivorum

Yellow, Dendroica petechia

Yellow-browed, Phylloscopus inornatus

Yellow-rumped, Dendroica coronata

Yellow-throated, Dendroica dominica

WATERTHRUSH, Louisiana, Parkesia motacilla

Northern, Parkesia noveboracensis

WAXWING, Bohemian, Bombycilla garrulus

Cedar, Bombycilla cedrorum

WHEATEAR, Northern, Oenanthe oenanthe

WHIMBREL, Numenius phaeopus

WHIP-POOR-WILL, Eastern, Caprimulgus vociferus

Mexican, Caprimulgus arizonae

WHISTLING-DUCK, Black-bellied, Dendrocygna autumnalis

Fulvous, Dendrocygna bicolor

West Indian, Dendrocygna arborea

WHITETHROAT, Lesser, Sylvia curruca

WIGEON, American, Anas americana

Eurasian, Anas penelope

WILLET, Tringa semipalmata

WOOD-PEWEE, Eastern, Contopus virens

Western, Contopus sordidulus

WOODCOCK, American, Scolopax minor

Eurasian, Scolopax rusticola

WOODPECKER, Acorn, Melanerpes formicivorus

American Three-toed, Picoides dorsalis

Arizona, Picoides arizonae

Black-backed, Picoides arcticus

Downy, Picoides pubescens

Gila, Melanerpes uropygialis

Golden-fronted, Melanerpes aurifrons

Great Spotted, Dendrocopos major

Hairy, Picoides villosus

Ivory-billed, Campephilus principalis

Ladder-backed, Picoides scalaris

Lewis's, Melanerpes lewis

Nuttall's, Picoides nuttallii

Pileated, Dryocopus pileatus

Puerto Rican, Melanerpes portoricensis

Red-bellied, Melanerpes carolinus

Red-cockaded, Picoides borealis

Red-headed, Melanerpes erythrocephalus

White-headed, Picoides albolarvatus

WOODSTAR, Bahama, Calliphlox evelynae

WREN, Bewick's Thryomanes bewickii

Cactus, Campylorhynchus brunneicapillus

Canyon, Catherpes mexicanus

Carolina, Thryothorus ludovicianus

House, Troglodytes aedon

Marsh, Cistothorus palustris

Pacific, Troglodytes pacificus

Rock, Salpinctes obsoletus

Sedge, Cistothorus platensis

Sinaloa, Thryothorus sinaloa

Winter, Troglodytes hiemalis

WRENTIT, Chamaea fasciata

WRYNECK, Eurasian, Jynx torquilla

YELLOWLEGS, Greater, Tringa melanoleuca

Lesser, Tringa flavipes

YELLOWTHROAT, Common, Geothlypis trichas

Gray-crowned, Geothlypis poliocephala

(2) Taxonomic listing. Species are listed in phylogenetic sequence by scientific name, with the common (English) name following the scientific name. To help clarify species relationships, we also list the higher-level taxonomic categories of Order, Family, and Subfamily.

Order ANSERIFORMES

Family ANATIDAE

Subfamily DENDROCYGNINAE

Dendrocygna autumnalis, Black-bellied Whistling-Duck

Dendrocygna arborea, West Indian Whistling-Duck

Dendrocygna bicolor, Fulvous Whistling-Duck

Subfamily ANSERINAE

Anser fabalis, Taiga Bean-Goose

Anser serrirostris, Tundra Bean-Goose

Anser albifrons, Greater White-fronted Goose

Anser erythropus, Lesser White-fronted Goose

Chen canagica, Emperor Goose

Chen caerulescens, Snow Goose

Chen rossii, Ross's Goose

Branta bernicla, Brant

Branta leucopsis, Barnacle Goose

Branta canadensis, Canada Goose (including Branta hutchinsii, Cackling Goose)

Branta sandvicensis, Hawaiian Goose

Cygnus buccinator, Trumpeter Swan

Cygnus columbianus, Tundra Swan

Cygnus cygnus, Whooper Swan

Subfamily ANATINAE

Cairina moschata, Muscovy Duck

Aix sponsa, Wood Duck

Anas strepera, Gadwall

Anas falcata, Falcated Duck

Anas penelope, Eurasian Wigeon

Anas americana, American Wigeon

Anas rubripes, American Black Duck

Anas platyrhynchos, Mallard

Anas fulvigula, Mottled Duck

Anas wyvilliana, Hawaiian Duck

Anas laysanensis, Laysan Duck

Anas zonorhyncha, Eastern Spot-billed Duck

Anas superciliosa, Pacific Black Duck

Anas discors, Blue-winged Teal

Anas cyanoptera, Cinnamon Teal

Anas clypeata, Northern Shoveler

Anas bahamensis, White-cheeked Pintail

Anas acuta, Northern Pintail

Anas querquedula, Garganey

Anas formosa, Baikal Teal

Anas crecca, Green-winged Teal

Aythya valisineria, Canvasback

Aythya americana, Redhead

Aythya ferina, Common Pochard

Aythya baeri, Baer's Pochard

Aythya collaris, Ring-necked Duck

Aythya fuligula, Tufted Duck

Aythya marila, Greater Scaup

Aythya affinis, Lesser Scaup

Polysticta stelleri, Steller's Eider

Somateria fischeri, Spectacled Eider

Somateria spectabilis, King Eider

Somateria mollissima, Common Eider

Histrionicus histrionicus, Harlequin Duck

Melanitta perspicillata, Surf Scoter

Melanitta fusca, White-winged Scoter

Melanitta americana, Black Scoter

Clangula hyemalis, Long-tailed Duck

Bucephala albeola, Bufflehead

Bucephala clangula, Common Goldeneye

Bucephala islandica, Barrow's Goldeneye

Mergellus albellus, Smew

Lophodytes cucullatus, Hooded Merganser

Mergus merganser, Common Merganser

Mergus serrator, Red-breasted Merganser

Nomonyx dominicus, Masked Duck

Oxyura jamaicensis, Ruddy Duck

Order GAVIIFORMES

Family GAVIIDAE

Gavia stellata, Red-throated Loon

Gavia arctica, Arctic Loon

Gavia pacifica, Pacific Loon

Gavia immer, Common Loon

Gavia adamsii, Yellow-billed Loon

Order PODICIPEDIFORMES

Family PODICIPEDIDAE

Tachybaptus dominicus, Least Grebe

Podilymbus podiceps, Pied-billed Grebe

Podiceps auritus, Horned Grebe

Podiceps grisegena, Red-necked Grebe

Podiceps nigricollis, Eared Grebe

Aechmophorus occidentalis, Western Grebe

Aechmophorus clarkii, Clark's Grebe

Order PHOENICOPTERIFORMES

Family PHOENICOPTERIDAE

Phoenicopterus ruber, American Flamingo

Order PROCELLARIIFORMES

Family DIOMEDEIDAE

Thalassarche chlororhynchos, Yellow-nosed Albatross

Thalassarche cauta, Shy Albatross

Thalassarche melanophris, Black-browed Albatross

Phoebetria palpebrata, Light-mantled Albatross

Diomedea exulans, Wandering Albatross

Phoebastria immutabilis, Laysan Albatross

Phoebastria nigripes, Black-footed Albatross

Phoebastria albatrus, Short-tailed Albatross

Family PROCELLARIIDAE

Fulmarus glacialis, Northern Fulmar

Pterodroma macroptera, Great-winged Petrel

Pterodroma neglecta, Kermadec Petrel

Pterodroma arminjoniana, Herald Petrel

Pterodroma ultima, Murphy's Petrel

Pterodroma inexpectata, Mottled Petrel

Pterodroma cahow, Bermuda Petrel

Pterodroma hasitata, Black-capped Petrel

Pterodroma externa, Juan Fernandez Petrel

Pterodroma sandwichensis, Hawaiian Petrel

Pterodroma cervicalis, White-necked Petrel

Pterodroma hypoleuca, Bonin Petrel

Pterodroma nigripennis, Black-winged Petrel

Pterodroma cookii, Cook's Petrel

Pterodroma longirostris, Stejneger's Petrel

Pterodroma alba, Phoenix Petrel

Pterodroma leucoptera, Gould's Petrel

Pterodroma rostrata, Tahiti Petrel

Bulweria bulwerii, Bulwer's Petrel

Bulweria fallax, Jouanin's Petrel

Procellaria parkinsoni, Parkinson's Petrel

Calonectris leucomelas, Streaked Shearwater

Calonectris diomedea, Cory's Shearwater

Calonectris edwardsii, Cape Verde Shearwater

Puffinus creatopus, Pink-footed Shearwater

Puffinus carneipes, Flesh-footed Shearwater

Puffinus gravis, Great Shearwater

Puffinus pacificus, Wedge-tailed Shearwater

Puffinus bulleri, Buller's Shearwater

Puffinus griseus, Sooty Shearwater

Puffinus tenuirostris, Short-tailed Shearwater

Puffinus nativitatis, Christmas Shearwater

Puffinus puffinus, Manx Shearwater

Puffinus auricularis, Townsend's Shearwater

Puffinus opisthomelas, Black-vented Shearwater

Puffinus lherminieri, Audubon's Shearwater

Puffinus assimilis, Little Shearwater

Family HYDROBATIDAE

Oceanites oceanicus, Wilson's Storm-Petrel

Pelagodroma marina, White-faced Storm-Petrel

Fregetta tropica, Black-bellied Storm-Petrel

Fregetta grallaria, White-bellied Storm-Petrel

Nesofregetta fuliginosa, Polynesian Storm-Petrel

Oceanodroma furcata, Fork-tailed Storm-Petrel

Oceanodroma hornbyi, Ringed Storm-Petrel

Oceanodroma monorhis, Swinhoe's Storm-Petrel

Oceanodroma leucorhoa, Leach's Storm-Petrel

Oceanodroma homochroa, Ashy Storm-Petrel

Oceanodroma castro, Band-rumped Storm-Petrel

Oceanodroma tethys, Wedge-rumped Storm-Petrel

Oceanodroma matsudairae, Matsudaira's Storm-Petrel

Oceanodroma melania, Black Storm-Petrel

Oceanodroma tristrami, Tristram's Storm-Petrel

Oceanodroma microsoma, Least Storm-Petrel

Order PHAETHONTIFORMES

Family PHAETHONTIDAE

Phaethon lepturus, White-tailed Tropicbird

Phaethon aethereus, Red-billed Tropicbird

Phaethon rubricauda, Red-tailed Tropicbird

Order CICONIIFORMES

Family CICONIIDAE

Jabiru mycteria, Jabiru

Mycteria americana, Wood Stork

Order SULIFORMES

Family FREGATIDAE

Fregata magnificens, Magnificent Frigatebird

Fregata minor, Great Frigatebird

Fregata ariel, Lesser Frigatebird

Family SULIDAE

Sula dactylatra, Masked Booby

Sula nebouxii, Blue-footed Booby

Sula leucogaster, Brown Booby

Sula sula, Red-footed Booby

Morus bassanus, Northern Gannet

Family PHALACROCORACIDAE

Phalacrocorax penicillatus, Brandt's Cormorant

Phalacrocorax brasilianus, Neotropic Cormorant

Phalacrocorax auritus, Double-crested Cormorant

Phalacrocorax carbo, Great Cormorant

Phalacrocorax urile, Red-faced Cormorant

Phalacrocorax pelagicus, Pelagic Cormorant

Phalacrocorax melanoleucos, Little Pied Cormorant

Family ANHINGIDAE

Anhinga anhinga, Anhinga

Order PELECANIFORMES

Family PELECANIDAE

Pelecanus erythrorhynchos, American White Pelican

Pelecanus occidentalis, Brown Pelican

Family ARDEIDAE

Botaurus lentiginosus, American Bittern

Ixobrychus sinensis, Yellow Bittern

Ixobrychus exilis, Least Bittern

Ixobrychus eurhythmus, Schrenck's Bittern

Ixobrychus flavicollis, Black Bittern

Ardea herodias, Great Blue Heron

Ardea cinerea, Gray Heron

Ardea alba, Great Egret

Mesophoyx intermedia, Intermediate Egret

Egretta eulophotes, Chinese Egret

Egretta garzetta, Little Egret

Egretta sacra, Pacific Reef-Egret

Egretta gularis, Western Reef-Heron

Egretta thula, Snowy Egret

Egretta caerulea, Little Blue Heron

Egretta tricolor, Tricolored Heron

Egretta rufescens, Reddish Egret

Bubulcus ibis, Cattle Egret

Ardeola bacchus, Chinese Pond-Heron

Butorides virescens, Green Heron

Nycticorax nycticorax, Black-crowned Night-Heron

Nyctanassa violacea, Yellow-crowned Night-Heron

Gorsachius goisagi, Japanese Night-Heron

Gorsachius melanolophus, Malayan Night-Heron

Family THRESKIORNITHIDAE

Subfamily THRESKIORNITHINAE

Eudocimus albus, White Ibis

Eudocimus ruber, Scarlet Ibis

Plegadis falcinellus, Glossy Ibis

Plegadis chihi, White-faced Ibis

Subfamily PLATALEINAE

Platalea ajaja, Roseate Spoonbill

Order ACCIPITRIFORMES

Family CATHARTIDAE

Coragyps atratus, Black Vulture

Cathartes aura, Turkey Vulture

Gymnogyps californianus, California Condor

Family PANDIONIDAE

Pandion haliaetus, Osprey

Family ACCIPITRIDAE

Chondrohierax uncinatus, Hook-billed Kite

Elanoides forficatus, Swallow-tailed Kite

Elanus leucurus, White-tailed Kite

Rostrhamus sociabilis, Snail Kite

Ictinia mississippiensis, Mississippi Kite

Milvus migrans, Black Kite

Haliaeetus leucocephalus, Bald Eagle

Haliaeetus albicilla, White-tailed Eagle

Haliaeetus pelagicus, Steller's Sea-Eagle

Circus cyaneus, Northern Harrier

Accipiter soloensis, Gray Frog-Hawk

Accipiter gularis, Japanese Sparrowhawk

Accipiter striatus, Sharp-shinned Hawk

Accipiter cooperii, Cooper's Hawk

Accipiter gentilis, Northern Goshawk

Geranospiza caerulescens, Crane Hawk

Buteogallus anthracinus, Common Black-Hawk

Parabuteo unicinctus, Harris's Hawk

Buteo magnirostris, Roadside Hawk

Buteo lineatus, Red-shouldered Hawk

Buteo platypterus, Broad-winged Hawk

Buteo nitidus, Gray Hawk

Buteo brachyurus, Short-tailed Hawk

Buteo swainsoni, Swainson's Hawk

Buteo albicaudatus, White-tailed Hawk

Buteo albonotatus, Zone-tailed Hawk

Buteo solitarius, Hawaiian Hawk

Buteo jamaicensis, Red-tailed Hawk

Buteo regalis, Ferruginous Hawk

Buteo lagopus, Rough-legged Hawk

Aquila chrysaetos, Golden Eagle

Order FALCONIFORMES

Family FALCONIDAE

Subfamily MICRASTURINAE

Micrastur semitorquatus, Collared Forest-Falcon

Subfamily CARACARINAE

Caracara cheriway, Crested Caracara

Subfamily FALCONINAE

Falco tinnunculus, Eurasian Kestrel

Falco sparverius, American Kestrel

Falco vespertinus, Red-footed Falcon

Falco columbarius, Merlin

Falco subbuteo, Eurasian Hobby

Falco femoralis, Aplomado Falcon

Falco rusticolus, Gyrfalcon

Falco peregrinus, Peregrine Falcon

Falco mexicanus, Prairie Falcon

Order GRUIFORMES

Family RALLIDAE

Coturnicops noveboracensis, Yellow Rail

Laterallus jamaicensis, Black Rail

Gallirallus philippensis, Buff-banded Rail

Gallirallus owstoni, Guam Rail

Crex crex, Corn Crake

Rallus longirostris, Clapper Rail

Rallus elegans, King Rail

Rallus limicola, Virginia Rail

Porzana carolina, Sora

Porzana tabuensis, Spotless Crake

Porzana flaviventer, Yellow-breasted Crake

Neocrex erythrops, Paint-billed Crake

Pardirallus maculatus, Spotted Rail

Porphyrio porphyrio, Purple Swamphen

Porphyrio martinica, Purple Gallinule

Porphyrio flavirostris, Azure Gallinule

Gallinula chloropus, Common Moorhen

Fulica atra, Eurasian Coot

Fulica alai, Hawaiian Coot

Fulica americana, American Coot

Fulica caribaea, Caribbean Coot

Family ARAMIDAE

Aramus guarauna, Limpkin

Family GRUIDAE

Grus canadensis, Sandhill Crane

Grus grus, Common Crane

Grus americana, Whooping Crane

Order CHARADRIIFORMES

Family CHARADRIIDAE

Subfamily VANELLINAE

Vanellus vanellus, Northern Lapwing

Subfamily CHARADRIINAE

Pluvialis squatarola, Black-bellied Plover

Pluvialis apricaria, European Golden-Plover

Pluvialis dominica, American Golden-Plover

Pluvialis fulva, Pacific Golden-Plover

Charadrius mongolus, Lesser Sand-Plover

Charadrius leschenaultii, Greater Sand-Plover

Charadrius collaris, Collared Plover

Charadrius alexandrinus, Snowy Plover

Charadrius wilsonia, Wilson's Plover

Charadrius hiaticula, Common Ringed Plover

Charadrius semipalmatus, Semipalmated Plover

Charadrius melodus, Piping Plover

Charadrius dubius, Little Ringed Plover

Charadrius vociferus, Killdeer

Charadrius montanus, Mountain Plover

Charadrius morinellus, Eurasian Dotterel

Family HAEMATOPODIDAE

Haematopus ostralegus, Eurasian Oystercatcher

Haematopus palliatus, American Oystercatcher

Haematopus bachmani, Black Oystercatcher

Family RECURVIROSTRIDAE

Himantopus himantopus, Black-winged Stilt

Himantopus mexicanus, Black-necked Stilt

Recurvirostra americana, American Avocet

Family JACANIDAE

Jacana spinosa, Northern Jacana

Family SCOLOPACIDAE

Subfamily SCOLOPACINAE

Xenus cinereus, Terek Sandpiper

Actitis hypoleucos, Common Sandpiper

Actitis macularius, Spotted Sandpiper

Tringa ochropus, Green Sandpiper

Tringa solitaria, Solitary Sandpiper

Tringa brevipes, Gray-tailed Tattler

Tringa incana, Wandering Tattler

Tringa erythropus, Spotted Redshank

Tringa melanoleuca, Greater Yellowlegs

Tringa nebularia, Common Greenshank

Tringa guttifer, Nordmann's Greenshank

Tringa semipalmata, Willet

Tringa flavipes, Lesser Yellowlegs

Tringa stagnatilis, Marsh Sandpiper

Tringa glareola, Wood Sandpiper

Bartramia longicauda, Upland Sandpiper

Numenius minutus, Little Curlew

Numenius borealis, Eskimo Curlew

Numenius phaeopus, Whimbrel

Numenius tahitiensis, Bristle-thighed Curlew

Numenius madagascariensis, Far Eastern Curlew

Numenius arquata, Eurasian Curlew

Numenius americanus, Long-billed Curlew

Limosa limosa, Black-tailed Godwit

Limosa haemastica, Hudsonian Godwit

Limosa lapponica, Bar-tailed Godwit

Limosa fedoa, Marbled Godwit

Arenaria interpres, Ruddy Turnstone

Arenaria melanocephala, Black Turnstone

Aphriza virgata, Surfbird

Calidris tenuirostris, Great Knot

Calidris canutus, Red Knot

Calidris alba, Sanderling

Calidris pusilla, Semipalmated Sandpiper

Calidris mauri, Western Sandpiper

Calidris ruficollis, Red-necked Stint

Calidris minuta, Little Stint

Calidris temminckii, Temminck's Stint

Calidris subminuta, Long-toed Stint

Calidris minutilla, Least Sandpiper

Calidris fuscicollis, White-rumped Sandpiper

Calidris bairdii, Baird's Sandpiper

Calidris melanotos, Pectoral Sandpiper

Calidris acuminata, Sharp-tailed Sandpiper

Calidris maritima, Purple Sandpiper

Calidris ptilocnemis, Rock Sandpiper

Calidris alpina, Dunlin

Calidris ferruginea, Curlew Sandpiper

Calidris himantopus, Stilt Sandpiper

Eurynorhynchus pygmeus, Spoon-billed Sandpiper

Limicola falcinellus, Broad-billed Sandpiper

Tryngites subruficollis, Buff-breasted Sandpiper

Philomachus pugnax, Ruff

Limnodromus griseus, Short-billed Dowitcher

Limnodromus scolopaceus, Long-billed Dowitcher

Lymnocryptes minimus, Jack Snipe

Gallinago delicata, Wilson's Snipe

Gallinago gallinago, Common Snipe

Gallinago stenura, Pin-tailed Snipe

Gallinago megala, Swinhoe's Snipe

Scolopax rusticola, Eurasian Woodcock

Scolopax minor, American Woodcock

Subfamily PHALAROPODINAE

Phalaropus tricolor, Wilson's Phalarope

Phalaropus lobatus, Red-necked Phalarope

Phalaropus fulicarius, Red Phalarope

Family LARIDAE

Subfamily LARINAE

Creagrus furcatus, Swallow-tailed Gull

Rissa tridactyla, Black-legged Kittiwake

Rissa brevirostris, Red-legged Kittiwake

Pagophila eburnea, Ivory Gull

Xema sabini, Sabine's Gull

Chroicocephalus philadelphia, Bonaparte's Gull

Chroicocephalus cirrocephalus, Gray-hooded Gull

Chroicocephalus ridibundus, Black-headed Gull

Hydrocoloeus minutus, Little Gull

Rhodostethia rosea, Ross's Gull

Leucophaeus atricilla, Laughing Gull

Leucophaeus pipixcan, Franklin's Gull

Larus belcheri, Belcher's Gull

Larus crassirostris, Black-tailed Gull

Larus heermanni, Heermann's Gull

Larus canus, Mew Gull

Larus delawarensis, Ring-billed Gull

Larus occidentalis, Western Gull

Larus livens, Yellow-footed Gull

Larus californicus, California Gull

Larus argentatus, Herring Gull

Larus michahellis, Yellow-legged Gull

Larus thayeri, Thayer's Gull

Larus glaucoides, Iceland Gull

Larus fuscus, Lesser Black-backed Gull

Larus schistisagus, Slaty-backed Gull

Larus glaucescens, Glaucous-winged Gull

Larus hyperboreus, Glaucous Gull

Larus marinus, Great Black-backed Gull

Larus dominicanus, Kelp Gull

Subfamily STERNINAE

Anous stolidus, Brown Noddy

Anous minutus, Black Noddy

Procelsterna cerulea, Blue-gray Noddy

Gygis alba, White Tern

Onychoprion fuscatus, Sooty Tern

Onychoprion lunatus, Gray-backed Tern

Onychoprion anaethetus, Bridled Tern

Onychoprion aleuticus, Aleutian Tern

Sternula albifrons, Little Tern

Sternula antillarum, Least Tern

Phaetusa simplex, Large-billed Tern

Gelochelidon nilotica, Gull-billed Tern

Hydroprogne caspia, Caspian Tern

Chlidonias niger, Black Tern

Chlidonias leucopterus, White-winged Tern

Chlidonias hybridus, Whiskered Tern

Sterna dougallii, Roseate Tern

Sterna sumatrana, Black-naped Tern

Sterna hirundo, Common Tern

Sterna paradisaea, Arctic Tern

Sterna forsteri, Forster's Tern

Thalasseus maximus, Royal Tern

Thalasseus bergii, Great Crested Tern

Thalasseus sandvicensis, Sandwich Tern

Thalasseus elegans, Elegant Tern

Subfamily RYNCHOPINAE

Rynchops niger, Black Skimmer

Family STERCORARIIDAE

Stercorarius skua, Great Skua

Stercorarius maccormicki, South Polar Skua

Stercorarius pomarinus, Pomarine Jaeger

Stercorarius parasiticus, Parasitic Jaeger

Stercorarius longicaudus, Long-tailed Jaeger

Family ALCIDAE

Alle alle, Dovekie

Uria aalge, Common Murre

Uria lomvia, Thick-billed Murre

Alca torda, Razorbill

Cepphus grylle, Black Guillemot

Cepphus columba, Pigeon Guillemot

Brachyramphus perdix, Long-billed Murrelet

Brachyramphus marmoratus, Marbled Murrelet

Brachyramphus brevirostris, Kittlitz's Murrelet

Synthliboramphus hypoleucus, Xantus's Murrelet

Synthliboramphus craveri, Craveri's Murrelet

Synthliboramphus antiquus, Ancient Murrelet

Ptychoramphus aleuticus, Cassin's Auklet

Aethia psittacula, Parakeet Auklet

Aethia pusilla, Least Auklet

Aethia pygmaea, Whiskered Auklet

Aethia cristatella, Crested Auklet

Cerorhinca monocerata, Rhinoceros Auklet

Fratercula arctica, Atlantic Puffin

Fratercula corniculata, Horned Puffin

Fratercula cirrhata, Tufted Puffin

Order COLUMBIFORMES

Family COLUMBIDAE

Patagioenas squamosa, Scaly-naped Pigeon

Patagioenas leucocephala, White-crowned Pigeon

Patagioenas flavirostris, Red-billed Pigeon

Patagioenas inornata, Plain Pigeon

Patagioenas fasciata, Band-tailed Pigeon

Streptopelia orientalis, Oriental Turtle-Dove

Zenaida asiatica, White-winged Dove

Zenaida aurita, Zenaida Dove

Zenaida macroura, Mourning Dove

Columbina inca, Inca Dove

Columbina passerina, Common Ground-Dove

Columbina talpacoti, Ruddy Ground-Dove

Leptotila verreauxi, White-tipped Dove

Geotrygon chrysia, Key West Quail-Dove

Geotrygon mystacea, Bridled Quail-Dove

Geotrygon montana, Ruddy Quail-Dove

Gallicolumba xanthonura, White-throated Ground-Dove

Gallicolumba stairi, Friendly Ground-Dove

Ptilinopus perousii, Many-colored Fruit-Dove

Ptilinopus porphyraceus, Crimson-crowned Fruit-Dove

Ptilinopus roseicapilla, Mariana Fruit-Dove

Ducula pacifica, Pacific Imperial-Pigeon

Order CUCULIFORMES

Family CUCULIDAE

Subfamily CUCULINAE

Cuculus fugax, Hodgson's Hawk-Cuckoo

Cuculus canorus, Common Cuckoo

Cuculus optatus, Oriental Cuckoo

Coccyzus americanus, Yellow-billed Cuckoo

Coccyzus minor, Mangrove Cuckoo

Coccyzus erythropthalmus, Black-billed Cuckoo

Coccyzus vieilloti, Puerto Rican Lizard-Cuckoo

Subfamily NEOMORPHINAE

Geococcyx californianus, Greater Roadrunner

Subfamily CROTOPHAGINAE

Crotophaga ani, Smooth-billed Ani

Crotophaga sulcirostris, Groove-billed Ani

Order STRIGIFORMES

Family TYTONIDAE

Tyto alba, Barn Owl

Family STRIGIDAE

Otus flammeolus, Flammulated Owl

Otus sunia, Oriental Scops-Owl

Megascops kennicottii, Western Screech-Owl

Megascops asio, Eastern Screech-Owl

Megascops trichopsis, Whiskered Screech-Owl

Megascops nudipes, Puerto Rican Screech-Owl

Bubo virginianus, Great Horned Owl

Bubo scandiacus, Snowy Owl

Surnia ulula, Northern Hawk Owl

Glaucidium gnoma, Northern Pygmy-Owl

Glaucidium brasilianum, Ferruginous Pygmy-Owl

Micrathene whitneyi, Elf Owl

Athene cunicularia, Burrowing Owl

Ciccaba virgata, Mottled Owl

Strix occidentalis, Spotted Owl

Strix varia, Barred Owl

Strix nebulosa, Great Gray Owl

Asio otus, Long-eared Owl

Asio stygius, Stygian Owl

Asio flammeus, Short-eared Owl

Aegolius funereus, Boreal Owl

Aegolius acadicus, Northern Saw-whet Owl

Ninox scutulata, Brown Hawk-Owl

Order CAPRIMULGIFORMES

Family CAPRIMULGIDAE

Subfamily CHORDEILINAE

Chordeiles acutipennis, Lesser Nighthawk

Chordeiles minor, Common Nighthawk

Chordeiles gundlachii, Antillean Nighthawk

Subfamily CAPRIMULGINAE

Nyctidromus albicollis, Common Pauraque

Phalaenoptilus nuttallii, Common Poorwill

Caprimulgus carolinensis, Chuck-will's-widow

Caprimulgus ridgwayi, Buff-collared Nightjar

Caprimulgus vociferus, Eastern Whip-poor-will

Caprimulgus arizonae, Mexican Whip-poor-will

Caprimulgus noctitherus, Puerto Rican Nightjar

Caprimulgus indicus, Gray Nightjar

Order APODIFORMES

Family APODIDAE

Subfamily CYPSELOIDINAE

Cypseloides niger, Black Swift

Streptoprocne zonaris, White-collared Swift

Subfamily CHAETURINAE

Chaetura pelagica, Chimney Swift

Chaetura vauxi, Vaux's Swift

Chaetura brachyura, Short-tailed Swift

Hirundapus caudacutus, White-throated Needletail

Aerodramus spodiopygius, White-rumped Swiftlet

Aerodramus bartschi, Mariana Swiftlet

Subfamily APODINAE

Apus apus, Common Swift

Apus pacificus, Fork-tailed Swift

Apus melba, Alpine Swift

Aeronautes saxatalis, White-throated Swift

Tachornis phoenicobia, Antillean Palm-Swift

Family TROCHILIDAE

Subfamily TROCHILINAE

Colibri thalassinus, Green Violetear

Anthracothorax prevostii, Green-breasted Mango

Anthracothorax dominicus, Antillean Mango

Anthracothorax viridis, Green Mango

Eulampis jugularis, Purple-throated Carib

Eulampis holosericeus, Green-throated Carib

Orthorhyncus cristatus, Antillean Crested Hummingbird

Chlorostilbon maugaeus, Puerto Rican Emerald

Cynanthus latirostris, Broad-billed Hummingbird

Hylocharis leucotis, White-eared Hummingbird

Hylocharis xantusii, Xantus's Hummingbird

Amazilia beryllina, Berylline Hummingbird

Amazilia yucatanensis, Buff-bellied Hummingbird

Amazilia rutila, Cinnamon Hummingbird

Amazilia violiceps, Violet-crowned Hummingbird

Lampornis clemenciae, Blue-throated Hummingbird

Eugenes fulgens, Magnificent Hummingbird

Heliomaster constantii, Plain-capped Starthroat

Calliphlox evelynae, Bahama Woodstar

Calothorax lucifer, Lucifer Hummingbird

Archilochus colubris, Ruby-throated Hummingbird

Archilochus alexandri, Black-chinned Hummingbird

Calypte anna, Anna's Hummingbird

Calypte costae, Costa's Hummingbird

Stellula calliope, Calliope Hummingbird

Atthis heloisa, Bumblebee Hummingbird

Selasphorus platycercus, Broad-tailed Hummingbird

Selasphorus rufus, Rufous Hummingbird

Selasphorus sasin, Allen's Hummingbird

Order TROGONIFORMES

Family TROGONIDAE

Subfamily TROGONINAE

Trogon elegans, Elegant Trogon

Euptilotis neoxenus, Eared Quetzel

Order UPUPIFORMES

Family UPUPIDAE

Upupa epops, Eurasian Hoopoe

Order CORACIIFORMES

Family ALCEDINIDAE

Subfamily HALCYONINAE

Todirhamphus cinnamominus, Micronesian Kingfisher

Todirhamphus chloris, Collared Kingfisher

Subfamily CERYLINAE

Megaceryle torquata, Ringed Kingfisher

Megaceryle alcyon, Belted Kingfisher

Chloroceryle americana, Green Kingfisher

Order PICIFORMES

Family PICIDAE

Subfamily JYNGINAE

Jynx torquilla, Eurasian Wryneck

Subfamily PICINAE

Melanerpes lewis, Lewis's Woodpecker

Melanerpes portoricensis, Puerto Rican Woodpecker

Melanerpes erythrocephalus, Red-headed Woodpecker

Melanerpes formicivorus, Acorn Woodpecker

Melanerpes uropygialis, Gila Woodpecker

Melanerpes aurifrons, Golden-fronted Woodpecker

Melanerpes carolinus, Red-bellied Woodpecker

Sphyrapicus thyroideus, Williamson's Sapsucker

Sphyrapicus varius, Yellow-bellied Sapsucker

Sphyrapicus nuchalis, Red-naped Sapsucker

Sphyrapicus ruber, Red-breasted Sapsucker

Dendrocopos major, Great Spotted Woodpecker

Picoides scalaris, Ladder-backed Woodpecker

Picoides nuttallii, Nuttall's Woodpecker

Picoides pubescens, Downy Woodpecker

Picoides villosus, Hairy Woodpecker

Picoides arizonae, Arizona Woodpecker

Picoides borealis, Red-cockaded Woodpecker

Picoides albolarvatus, White-headed Woodpecker

Picoides dorsalis, American Three-toed Woodpecker

Picoides arcticus, Black-backed Woodpecker

Colaptes auratus, Northern Flicker

Colaptes chrysoides, Gilded Flicker

Dryocopus pileatus, Pileated Woodpecker

Campephilus principalis, Ivory-billed Woodpecker

Order PASSERIFORMES

Family TYRANNIDAE

Subfamily ELAENIINAE

Camptostoma imberbe, Northern Beardless-Tyrannulet

Myiopagis viridicata, Greenish Elaenia

Elaenia martinica, Caribbean Elaenia

Elaenia albiceps, White-crested Eleania

Subfamily FLUVICOLINAE

Mitrephanes phaeocercus, Tufted Flycatcher

Contopus cooperi, Olive-sided Flycatcher

Contopus pertinax, Greater Pewee

Contopus sordidulus, Western Wood-Pewee

Contopus virens, Eastern Wood-Pewee

Contopus caribaeus, Cuban Pewee

Contopus hispaniolensis, Hispaniolan Pewee

Contopus latirostris, Lesser Antillean Pewee

Empidonax flaviventris, Yellow-bellied Flycatcher

Empidonax virescens, Acadian Flycatcher

Empidonax alnorum, Alder Flycatcher

Empidonax traillii, Willow Flycatcher

Empidonax minimus, Least Flycatcher

Empidonax hammondii, Hammond's Flycatcher

Empidonax wrightii, Gray Flycatcher

Empidonax oberholseri, Dusky Flycatcher

Empidonax difficilis, Pacific-slope Flycatcher

Empidonax occidentalis, Cordilleran Flycatcher

Empidonax fulvifrons, Buff-breasted Flycatcher

Sayornis nigricans, Black Phoebe

Sayornis phoebe, Eastern Phoebe

Sayornis saya, Say's Phoebe

Pyrocephalus rubinus, Vermilion Flycatcher

Subfamily TYRANNINAE

Myiarchus tuberculifer, Dusky-capped Flycatcher

Myiarchus cinerascens, Ash-throated Flycatcher

Myiarchus nuttingi, Nutting's Flycatcher

Myiarchus crinitus, Great Crested Flycatcher

Myiarchus tyrannulus, Brown-crested Flycatcher

Myiarchus sagrae, La Sagra's Flycatcher

Myiarchus antillarum, Puerto Rican Flycatcher

Pitangus sulphuratus, Great Kiskadee

Myiozetetes similis, Social Flycatcher

Myiodynastes luteiventris, Sulphur-bellied Flycatcher

Legatus leucophalus, Piratic Flycatcher

Empidonomus varius, Variegated Flycatcher

Empidonomus aurantioatrocristatus, Crowned Slaty Flycatcher

Tyrannus melancholicus, Tropical Kingbird

Tyrannus couchii, Couch's Kingbird

Tyrannus vociferans, Cassin's Kingbird

Tyrannus crassirostris, Thick-billed Kingbird

Tyrannus verticalis, Western Kingbird

Tyrannus tyrannus, Eastern Kingbird

Tyrannus dominicensis, Gray Kingbird

Tyrannus caudifasciatus, Loggerhead Kingbird

Tyrannus forficatus, Scissor-tailed Flycatcher

Tyrannus savana, Fork-tailed Flycatcher

Pachyramphus aglaiae, Rose-throated Becard

Tityra semifasciata, Masked Tityra

Family LANIIDAE

Lanius cristatus, Brown Shrike

Lanius ludovicianus, Loggerhead Shrike

Lanius excubitor, Northern Shrike

Family VIREONIDAE

Vireo griseus, White-eyed Vireo

Vireo crassirostris, Thick-billed Vireo

Vireo latimeri, Puerto Rican Vireo

Vireo bellii, Bell's Vireo

Vireo atricapillus, Black-capped Vireo

Vireo vicinior, Gray Vireo

Vireo flavifrons, Yellow-throated Vireo

Vireo plumbeus, Plumbeous Vireo

Vireo cassinii, Cassin's Vireo

Vireo solitarius, Blue-headed Vireo

Vireo huttoni, Hutton's Vireo

Vireo gilvus, Warbling Vireo

Vireo philadelphicus, Philadelphia Vireo

Vireo olivaceus, Red-eyed Vireo

Vireo flavoviridis, Yellow-green Vireo

Vireo altiloquus, Black-whiskered Vireo

Vireo magister, Yucatan Vireo

Family CORVIDAE

Perisoreus canadensis, Gray Jay

Psilorhinus morio, Brown Jay

Cyanocorax yncas, Green Jay

Gymnorhinus cyanocephalus, Pinyon Jay

Cyanocitta stelleri, Steller's Jay

Cyanocitta cristata, Blue Jay

Aphelocoma coerulescens, Florida Scrub-Jay

Aphelocoma insularis, Island Scrub-Jay

Aphelocoma californica, Western Scrub-Jay

Aphelocoma ultramarina, Mexican Jay

Nucifraga columbiana, Clark's Nutcracker

Pica hudsonia, Black-billed Magpie

Pica nuttalli, Yellow-billed Magpie

Corvus kubaryi, Mariana Crow

Corvus brachyrhynchos, American Crow

Corvus caurinus, Northwestern Crow

Corvus leucognaphalus, White-necked Crow

Corvus imparatus, Tamaulipas Crow

Corvus ossifragus, Fish Crow

Corvus hawaiiensis, Hawaiian Crow

Corvus cryptoleucus, Chihuahuan Raven

Corvus corax, Common Raven

Family ALAUDIDAE

Alauda arvensis, Sky Lark

Eremophila alpestris, Horned Lark

Family HIRUNDINIDAE

Subfamily HIRUNDININAE

Progne subis, Purple Martin

Progne cryptoleuca, Cuban Martin

Progne dominicensis, Caribbean Martin

Progne chalybea, Gray-breasted Martin

Progne elegans, Southern Martin

Progne tapera, Brown-chested Martin

Tachycineta bicolor, Tree Swallow

Tachycineta albilinea, Mangrove Swallow

Tachycineta thalassina, Violet-green Swallow

Tachycineta cyaneoviridis, Bahama Swallow

Stelgidopteryx serripennis, Northern Rough-winged Swallow

Riparia riparia, Bank Swallow

Petrochelidon pyrrhonota, Cliff Swallow

Petrochelidon fulva, Cave Swallow

Hirundo rustica, Barn Swallow

Delichon urbicum, Common House-Martin

Family PARIDAE

Poecile carolinensis, Carolina Chickadee

Poecile atricapillus, Black-capped Chickadee

Poecile gambeli, Mountain Chickadee

Poecile sclateri, Mexican Chickadee

Poecile rufescens, Chestnut-backed Chickadee

Poecile hudsonicus, Boreal Chickadee

Poecile cinctus, Gray-headed Chickadee

Baeolophus wollweberi, Bridled Titmouse

Baeolophus inornatus, Oak Titmouse

Baeolophus ridgwayi, Juniper Titmouse

Baeolophus bicolor, Tufted Titmouse

Baeolophus atricristatus, Black-crested Titmouse

Family REMIZIDAE

Auriparus flaviceps, Verdin

Family AEGITHALIDAE

Psaltriparus minimus, Bushtit

Family SITTIDAE

Subfamily SITTINAE

Sitta canadensis, Red-breasted Nuthatch

Sitta carolinensis, White-breasted Nuthatch

Sitta pygmaea, Pygmy Nuthatch

Sitta pusilla, Brown-headed Nuthatch

Family CERTHIIDAE

Subfamily CERTHIINAE

Certhia americana, Brown Creeper

Family TROGLODYTIDAE

Campylorhynchus brunneicapillus, Cactus Wren

Salpinctes obsoletus, Rock Wren

Catherpes mexicanus, Canyon Wren

Thryothorus sinaloa, Sinaloa Wren

Thryothorus ludovicianus, Carolina Wren

Thryomanes bewickii, Bewick's Wren

Troglodytes aedon, House Wren

Troglodytes pacificus, Pacific Wren

Troglodytes hiemalis, Winter Wren

Cistothorus platensis, Sedge Wren

Cistothorus palustris, Marsh Wren

Family POLIOPTILIDAE

Polioptila caerulea, Blue-gray Gnatcatcher

Polioptila californica, California Gnatcatcher

Polioptila melanura, Black-tailed Gnatcatcher

Polioptila nigriceps, Black-capped Gnatcatcher

Family CINCLIDAE

Cinclus mexicanus, American Dipper

Family REGULIDAE

Regulus satrapa, Golden-crowned Kinglet

Regulus calendula, Ruby-crowned Kinglet

Family PHYLLOSCOPIDAE

Phylloscopus trochilus, Willow Warbler

Phylloscopus sibilatrix, Wood Warbler

Phylloscopus fuscatus, Dusky Warbler

Phylloscopus proregulus, Pallas's Leaf-Warbler

Phylloscopus inornatus, Yellow-browed Warbler

Phylloscopus borealis, Arctic Warbler

Family SYLVIIDAE

Sylvia curruca, Lesser Whitethroat

Chamaea fasciata, Wrentit

Family ACROCEPHALIDAE

Acrocephalus luscinia, Nightingale Reed-Warbler

Acrocephalus familiaris, Millerbird

Acrocephalus schoenobaenus, Sedge Warbler

Family MEGALURIDAE

Locustella ochotensis, Middendorff's Grasshopper-Warbler

Locustella lanceolata, Lanceolated Warbler

Family MUSCICAPIDAE

Ficedula narcissina, Narcissus Flycatcher

Ficedula mugimaki, Mugimaki Flycatcher

Ficedula albicilla, Taiga Flycatcher

Muscicapa sibirica, Dark-sided Flycatcher

Muscicapa griseisticta, Gray-streaked Flycatcher

Muscicapa dauurica, Asian Brown Flycatcher

Muscicapa striata, Spotted Flycatcher

Family TURDIDAE

Monticola solitarius, Blue Rock-Thrush

Luscinia sibilans, Rufous-tailed Robin

Luscinia calliope, Siberian Rubythroat

Luscinia svecica, Bluethroat

Luscinia cyane, Siberian Blue Robin

Tarsiger cyanurus, Red-flanked Bluetail

Oenanthe oenanthe, Northern Wheatear

Saxicola torquatus, Stonechat

Sialia sialis, Eastern Bluebird

Sialia mexicana, Western Bluebird

Sialia currucoides, Mountain Bluebird

Myadestes townsendi, Townsend's Solitaire

Myadestes myadestinus, Kamao

Myadestes lanaiensis, Olomao

Myadestes obscurus, Omao

Myadestes palmeri, Puaiohi

Catharus aurantiirostris, Orange-billed Nightingale-Thrush

Catharus mexicanus, Black-headed Nightingale-Thrush

Catharus fuscescens, Veery

Catharus minimus, Gray-cheeked Thrush

Catharus bicknelli, Bicknell's Thrush

Catharus ustulatus, Swainson's Thrush

Catharus guttatus, Hermit Thrush

Hylocichla mustelina, Wood Thrush

Turdus obscurus, Eyebrowed Thrush

Turdus naumanni, Dusky Thrush

Turdus pilaris, Fieldfare

Turdus grayi, Clay-colored Thrush

Turdus assimilis, White-throated Thrush

Turdus rufopalliatus, Rufous-backed Robin

Turdus migratorius, American Robin

Turdus plumbeus, Red-legged Thrush

Ixoreus naevius, Varied Thrush

Ridgwayia pinicola, Aztec Thrush

Family MIMIDAE

Dumetella carolinensis, Gray Catbird

Melanoptila glabrirostris, Black Catbird

Mimus polyglottos, Northern Mockingbird

Mimus gundlachii, Bahama Mockingbird

Oreoscoptes montanus, Sage Thrasher

Toxostoma rufum, Brown Thrasher

Toxostoma longirostre, Long-billed Thrasher

Toxostoma bendirei, Bendire's Thrasher

Toxostoma curvirostre, Curve-billed Thrasher

Toxostoma redivivum, California Thrasher

Toxostoma crissale, Crissal Thrasher

Toxostoma lecontei, Le Conte's Thrasher

Melanotis caerulescens, Blue Mockingbird

Margarops fuscatus, Pearly-eyed Thrasher

Family STURNIDAE

Sturnus philippensis, Chestnut-cheeked Starling

Sturnus cineraceus, White-cheeked Starling

Family PRUNELLIDAE

Prunella montanella, Siberian Accentor

Family MOTACILLIDAE

Motacilla tschutschensis, Eastern Yellow Wagtail

Motacilla citreola, Citrine Wagtail

Motacilla cinerea, Gray Wagtail

Motacilla alba, White Wagtail

Anthus trivialis, Tree Pipit

Anthus hodgsoni, Olive-backed Pipit

Anthus gustavi, Pechora Pipit

Anthus cervinus, Red-throated Pipit

Anthus rubescens, American Pipit

Anthus spragueii, Sprague's Pipit

Family BOMBYCILLIDAE

Bombycilla garrulus, Bohemian Waxwing

Bombycilla cedrorum, Cedar Waxwing

Family PTILOGONATIDAE

Ptilogonys cinereus, Gray Silky-flycatcher

Phainopepla nitens, Phainopepla

Family PEUCEDRAMIDAE

Peucedramus taeniatus, Olive Warbler

Family CALCARIIDAE

Calcarius lapponicus, Lapland Longspur

Calcarius ornatus, Chestnut-collared Longspur

Calcarius pictus, Smith's Longspur

Rhynchophanes mccownii, McCown's Longspur

Plectrophenax nivalis, Snow Bunting

Plectrophenax hyperboreus, McKay's Bunting

Family PARULIDAE

Vermivora bachmanii, Bachman's Warbler

Vermivora cyanoptera, Blue-winged Warbler

Vermivora chrysoptera, Golden-winged Warbler

Oreothlypis peregrina, Tennessee Warbler

Oreothlypis celata, Orange-crowned Warbler

Oreothlypis ruficapilla, Nashville Warbler

Oreothlypis virginiae, Virginia's Warbler

Oreothlypis crissalis, Colima Warbler

Oreothlypis luciae, Lucy's Warbler

Oreothlypis superciliosa, Crescent-chested Warbler

Parula americana, Northern Parula

Parula pitiayumi, Tropical Parula

Dendroica petechia, Yellow Warbler

Dendroica pensylvanica, Chestnut-sided Warbler

Dendroica magnolia, Magnolia Warbler

Dendroica tigrina, Cape May Warbler

Dendroica caerulescens, Black-throated Blue Warbler

Dendroica coronata, Yellow-rumped Warbler

Dendroica nigrescens, Black-throated Gray Warbler

Dendroica chrysoparia, Golden-cheeked Warbler

Dendroica virens, Black-throated Green Warbler

Dendroica townsendi, Townsend's Warbler

Dendroica occidentalis, Hermit Warbler

Dendroica fusca, Blackburnian Warbler

Dendroica dominica, Yellow-throated Warbler

Dendroica graciae, Grace's Warbler

Dendroica adelaidae, Adelaide's Warbler

Dendroica pinus, Pine Warbler

Dendroica kirtlandii, Kirtland's Warbler

Dendroica discolor, Prairie Warbler

Dendroica palmarum, Palm Warbler

Dendroica castanea, Bay-breasted Warbler

Dendroica striata, Blackpoll Warbler

Dendroica cerulea, Cerulean Warbler

Dendroica angelae, Elfin-woods Warbler

Mniotilta varia, Black-and-white Warbler

Setophaga ruticilla, American Redstart

Protonotaria citrea, Prothonotary Warbler

Helmitheros vermivorum, Worm-eating Warbler

Limnothlypis swainsonii, Swainson's Warbler

Seiurus aurocapilla, Ovenbird

Parkesia noveboracensis, Northern Waterthrush

Parkesia motacilla, Louisiana Waterthrush

Oporornis formosus, Kentucky Warbler

Oporornis agilis, Connecticut Warbler

Oporornis philadelphia, Mourning Warbler

Oporornis tolmiei, MacGillivray's Warbler

Geothlypis trichas, Common Yellowthroat

Geothlypis poliocephala, Gray-crowned Yellowthroat

Wilsonia citrina, Hooded Warbler

Wilsonia pusilla, Wilson's Warbler

Wilsonia canadensis, Canada Warbler

Cardellina rubrifrons, Red-faced Warbler

Myioborus pictus, Painted Redstart

Myioborus miniatus, Slate-throated Redstart

Euthlypis lachrymosa, Fan-tailed Warbler

Basileuterus culicivorus, Golden-crowned Warbler

Basileuterus rufifrons, Rufous-capped Warbler

Icteria virens, Yellow-breasted Chat

Family THRAUPIDAE

Nesospingus speculiferus, Puerto Rican Tanager

Spindalis zena, Western Spindalis

Spindalis portoricensis, Puerto Rican Spindalis

Family EMBERIZIDAE

Sporophila torqueola, White-collared Seedeater

Tiaris olivaceus, Yellow-faced Grassquit

Tiaris bicolor, Black-faced Grassquit

Loxigilla portoricensis, Puerto Rican Bullfinch

Arremonops rufivirgatus, Olive Sparrow

Pipilo chlorurus, Green-tailed Towhee

Pipilo maculatus, Spotted Towhee

Pipilo erythrophthalmus, Eastern Towhee

Aimophila ruficeps, Rufous-crowned Sparrow

Melozone fusca, Canyon Towhee

Melozone crissalis, California Towhee

Melozone aberti, Abert's Towhee

Peucaea carpalis, Rufous-winged Sparrow

Peucaea botterii, Botteri's Sparrow

Peucaea cassinii, Cassin's Sparrow

Peucaea aestivalis, Bachman's Sparrow

Spizella arborea, American Tree Sparrow

Spizella passerina, Chipping Sparrow

Spizella pallida, Clay-colored Sparrow

Spizella breweri, Brewer's Sparrow

Spizella pusilla, Field Sparrow

Spizella wortheni, Worthen's Sparrow

Spizella atrogularis, Black-chinned Sparrow

Pooecetes gramineus, Vesper Sparrow

Chondestes grammacus, Lark Sparrow

Amphispiza quinquestriata, Five-striped Sparrow

Amphispiza bilineata, Black-throated Sparrow

Amphispiza belli, Sage Sparrow

Calamospiza melanocorys, Lark Bunting

Passerculus sandwichensis, Savannah Sparrow

Ammodramus savannarum, Grasshopper Sparrow

Ammodramus bairdii, Baird's Sparrow

Ammodramus henslowii, Henslow's Sparrow

Ammodramus leconteii, Le Conte's Sparrow

Ammodramus nelsoni, Nelson's Sparrow

Ammodramus caudacutus, Saltmarsh Sparrow

Ammodramus maritimus, Seaside Sparrow

Passerella iliaca, Fox Sparrow

Melospiza melodia, Song Sparrow

Melospiza lincolnii, Lincoln's Sparrow

Melospiza georgiana, Swamp Sparrow

Zonotrichia albicollis, White-throated Sparrow

Zonotrichia querula, Harris's Sparrow

Zonotrichia leucophrys, White-crowned Sparrow

Zonotrichia atricapilla, Golden-crowned Sparrow

Junco hyemalis, Dark-eyed Junco

Junco phaeonotus, Yellow-eyed Junco

Emberiza leucocephalos, Pine Bunting

Emberiza chrysophrys, Yellow-browed Bunting

Emberiza pusilla, Little Bunting

Emberiza rustica, Rustic Bunting

Emberiza elegans, Yellow-throated Bunting

Emberiza aureola, Yellow-breasted Bunting

Emberiza variabilis, Gray Bunting

Emberiza pallasi, Pallas's Bunting

Emberiza schoeniclus, Reed Bunting

Family CARDINALIDAE

Piranga flava, Hepatic Tanager

Piranga rubra, Summer Tanager

Piranga olivacea, Scarlet Tanager

Piranga ludoviciana, Western Tanager

Piranga bidentata, Flame-colored Tanager

Rhodothraupis celaeno, Crimson-collared Grosbeak

Cardinalis cardinalis, Northern Cardinal

Cardinalis sinuatus, Pyrrhuloxia

Pheucticus chrysopeplus, Yellow Grosbeak

Pheucticus ludovicianus, Rose-breasted Grosbeak

Pheucticus melanocephalus, Black-headed Grosbeak

Cyanocompsa parellina, Blue Bunting

Passerina caerulea, Blue Grosbeak

Passerina amoena, Lazuli Bunting

Passerina cyanea, Indigo Bunting

Passerina versicolor, Varied Bunting

Passerina ciris, Painted Bunting

Spiza americana, Dickcissel

Family ICTERIDAE

Dolichonyx oryzivorus, Bobolink

Agelaius phoeniceus, Red-winged Blackbird

Agelaius tricolor, Tricolored Blackbird

Agelaius humeralis, Tawny-shouldered Blackbird

Agelaius xanthomus, Yellow-shouldered Blackbird

Sturnella magna, Eastern Meadowlark

Sturnella neglecta, Western Meadowlark

Xanthocephalus xanthocephalus, Yellow-headed Blackbird

Euphagus carolinus, Rusty Blackbird

Euphagus cyanocephalus, Brewer's Blackbird

Quiscalus quiscula, Common Grackle

Quiscalus major, Boat-tailed Grackle

Quiscalus mexicanus, Great-tailed Grackle

Quiscalus niger, Greater Antillean Grackle

Molothrus bonariensis, Shiny Cowbird

Molothrus aeneus, Bronzed Cowbird

Molothrus ater, Brown-headed Cowbird

Icterus portoricensis, Puerto Rican Oriole

Icterus wagleri, Black-vented Oriole

Icterus spurius, Orchard Oriole

Icterus cucullatus, Hooded Oriole

Icterus pustulatus, Streak-backed Oriole

Icterus bullockii, Bullock's Oriole

Icterus gularis, Altamira Oriole

Icterus graduacauda, Audubon's Oriole

Icterus galbula, Baltimore Oriole

Icterus parisorum, Scott's Oriole

Family FRINGILLIDAE

Subfamily FRINGILLINAE

Fringilla coelebs, Common Chaffinch

Fringilla montifringilla, Brambling

Subfamily EUPHONIINAE

Euphonia musica, Antillean Euphonia

Subfamily CARDUELINAE

Leucosticte tephrocotis, Gray-crowned Rosy-Finch

Leucosticte atrata, Black Rosy-Finch

Leucosticte australis, Brown-capped Rosy-Finch

Pinicola enucleator, Pine Grosbeak

Carpodacus erythrinus, Common Rosefinch

Carpodacus purpureus, Purple Finch

Carpodacus cassinii, Cassin's Finch

Carpodacus mexicanus, House Finch

Loxia curvirostra, Red Crossbill

Loxia leucoptera, White-winged Crossbill

Acanthis flammea, Common Redpoll

Acanthis hornemanni, Hoary Redpoll

Spinus spinus, Eurasian Siskin

Spinus pinus, Pine Siskin

Spinus psaltria, Lesser Goldfinch

Spinus lawrencei, Lawrence's Goldfinch

Spinus tristis, American Goldfinch

Chloris sinica, Oriental Greenfinch

Pyrrhula pyrrhula, Eurasian Bullfinch

Coccothraustes vespertinus, Evening Grosbeak

Coccothraustes coccothraustes, Hawfinch

Subfamily DREPANIDINAE

Telespiza cantans, Laysan Finch

Telespiza ultima, Nihoa Finch

Psittirostra psittacea, Ou

Loxioides bailleui, Palila

Pseudonestor xanthophrys, Maui Parrotbill

Hemignathus virens, Hawaii Amakihi

Hemignathus flavus, Oahu Amakihi

Hemignathus kauaiensis, Kauai Amakihi

Hemignathus ellisianus, Greater Akialoa

Hemignathus lucidus, Nukupuu

Hemignathus munroi, Akiapolaau

Magumma parva, Anianiau

Oreomystis bairdi, Akikiki

Oreomystis mana, Hawaii Creeper

Paroreomyza maculata, Oahu Alauahio

Paroreomyza flammea, Kakawahie

Paroreomyza montana, Maui Alauahio

Loxops caeruleirostris, Akekee

Loxops coccineus, Akepa

Vestiaria coccinea, Iiwi

Palmeria dolei, Akohekohe

Himatione sanguinea, Apapane

Melamprosops phaeosoma, Poo-uli

PART 21—[AMENDED]

3. The authority citation for part 21 is revised to read as follows:

Authority Migratory Bird Treaty Act, 65 Pub. L. No. 65-186, 40 Stat. 755 (1918) (16 U.S.C. 703-12), as amended.

§ 21.3 [Amended]

4. Amend § 21.3, the definition of “Raptor”, by adding the words “the Order Accipitriformes,” immediately before the words “the Order Falconiformes”.

Dated: April 6, 2011.
Will Shafroth,
Acting Assistant Secretary for Fish and Wildlife and Parks.

[FR Doc. 2011-9448 Filed 4-25-11; 8:45 am]

BILLING CODE 4310-55-P